DEPARTMENT OF COMMERCE

National Oceanic and Atmospheric Administration

50 CFR Part 229

[Docket No. 220830-0176]

RIN 0648-BL30

List of Fisheries for 2023

AGENCY: National Marine Fisheries Service (NMFS), National Oceanic and Atmospheric Administration (NOAA), Commerce.

ACTION: Proposed rule, request for comment.

SUMMARY: The National Marine Fisheries Service (NMFS) publishes its proposed List of Fisheries (LOF) for 2023, as required by the Marine Mammal Protection Act (MMPA). The LOF for 2023 reflects new information on interactions between commercial fisheries and marine mammals. NMFS must classify each commercial fishery on the LOF into one of three categories under the MMPA based upon the level of mortality and serious injury of marine mammals that occurs incidental to each fishery. The classification of a fishery on the LOF determines whether participants in that fishery are subject to certain provisions of the MMPA, such as registration, observer coverage, and take reduction plan (TRP) requirements.

DATES: Comments must be received by October 11, 2022.

ADDRESSES: You may submit comments on this document, identified by NOAA-NMFS-2022-0041, by either of the following methods:

Electronic Submission: Submit all electronic public comments via the Federal e-Rulemaking Portal. Go to https://www.regulations.gov and enter NOAA-NMFS-2022-0041 in the Search box. Click on the “Comment” icon, complete the required fields, and enter or attach your comments.

Mail: Submit written comments to Chief, Marine Mammal and Sea Turtle Conservation Division, Office of Protected Resources, NMFS, 1315 East-West Highway, Silver Spring, MD 20910.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter N/A in the required fields if you wish to remain anonymous).

FOR FURTHER INFORMATION CONTACT: Jaclyn Taylor, Office of Protected Resources, 301-427-8402; Danielle Palmer, Greater Atlantic Region, 978-282-8468; Jessica Powell, Southeast Region, 727-824-5312; Dan Lawson, West Coast Region, 206-526-4740; Suzie Teerlink, Alaska Region, 907-586-7240; Elena Duke, Pacific Islands Region, 808-725-5134. Individuals who use a telecommunications device for the hearing impaired may call the Federal Information Relay Service at 1-800-877-8339 between 8 a.m. and 4 p.m. Eastern time, Monday through Friday, excluding Federal holidays.

SUPPLEMENTARY INFORMATION:

What is the List of Fisheries?

Section 118 of the MMPA requires NMFS to place all U.S. commercial fisheries into one of three categories based on the level of incidental mortality and serious injury of marine mammals occurring in each fishery (16 U.S.C. 1387(c)(1)). The classification of a fishery on the LOF determines whether participants in that fishery may be required to comply with certain provisions of the MMPA, such as registration, observer coverage, and take reduction plan requirements. NMFS must reexamine the LOF annually, considering new information in the Marine Mammal Stock Assessment Reports (SARs) and other relevant sources, and publish in the Federal Register any necessary changes to the LOF after notice and opportunity for public comment (16 U.S.C. 1387 (c)(1)(C)).

How does NMFS determine in which category a fishery is placed?

The definitions for the fishery classification criteria can be found in the implementing regulations for section 118 of the MMPA (50 CFR 229.2). The criteria are also summarized here.

Fishery Classification Criteria

The fishery classification criteria consist of a two-tiered, stock-specific approach that first addresses the total impact of all fisheries on each marine mammal stock and then addresses the impact of individual fisheries on each stock. This approach is based on consideration of the rate, in numbers of animals per year, of incidental mortalities and serious injuries of marine mammals due to commercial fishing operations relative to the potential biological removal (PBR) level for each marine mammal stock. The MMPA (16 U.S.C. 1362 (20)) defines the PBR level as the maximum number of animals, not including natural mortalities, that may be removed from a marine mammal stock while allowing that stock to reach or maintain its optimum sustainable population. This definition can also be found in the implementing regulations for section 118 of the MMPA (50 CFR 229.2).

Tier 1: Tier 1 considers the cumulative fishery mortality and serious injury for a particular stock. If the total annual mortality and serious injury of a marine mammal stock, across all fisheries, is less than or equal to 10 percent of the PBR level of the stock, all fisheries interacting with the stock will be placed in Category III (unless those fisheries interact with other stock(s) for which total annual mortality and serious injury is greater than 10 percent of PBR). Otherwise, these fisheries are subject to the next tier (Tier 2) of analysis to determine their classification.

Tier 2: Tier 2 considers fishery-specific mortality and serious injury for a particular stock.

Category I: Annual mortality and serious injury of a stock in a given fishery is greater than or equal to 50 percent of the PBR level (i.e., frequent incidental mortality and serious injury of marine mammals).

Category II: Annual mortality and serious injury of a stock in a given fishery is greater than 1 percent and less than 50 percent of the PBR level (i.e., occasional incidental mortality and serious injury of marine mammals).

Category III: Annual mortality and serious injury of a stock in a given fishery is less than or equal to 1 percent of the PBR level (i.e., a remote likelihood of or no known incidental mortality and serious injury of marine mammals).

Additional details regarding how the categories were determined are provided in the preamble to the final rule implementing section 118 of the MMPA (60 FR 45086; August 30, 1995).

Because fisheries are classified on a per-stock basis, a fishery may qualify as one category for one marine mammal stock and another category for a different marine mammal stock. A fishery is typically classified on the LOF at its highest level of classification (e.g., a fishery qualifying for Category III for one marine mammal stock and for Category II for another marine mammal stock will be listed under Category II). Stocks driving a fishery's classification are denoted with a superscript “1” in Tables 1 and 2.

Other Criteria That May Be Considered

The tier analysis requires a minimum amount of data, and NMFS does not have sufficient data to perform a tier analysis on certain fisheries. Therefore, NMFS has classified certain fisheries by analogy to other fisheries that use similar fishing techniques or gear that are known to cause mortality or serious injury of marine mammals, or according to factors discussed in the final LOF for 1996 (60 FR 67063; December 28, 1995) and listed in the regulatory definition of a Category II fishery. In the absence of reliable information indicating the frequency of incidental mortality and serious injury of marine mammals by a commercial fishery, NMFS will determine whether the incidental mortality or serious injury is “occasional” by evaluating other factors such as fishing techniques, gear used, methods used to deter marine mammals, target species, seasons and areas fished, qualitative data from logbooks or fishermen reports, stranding data, and the species and distribution of marine mammals in the area, or at the discretion of the Assistant Administrator for Fisheries (50 CFR 229.2).

Further, eligible commercial fisheries not specifically identified on the LOF are deemed to be Category II fisheries until the next LOF is published (50 CFR 229.2).

How does NMFS determine which species or stocks are included as incidentally killed or injured in a fishery?

The LOF includes a list of marine mammal species and/or stocks incidentally killed or injured in each commercial fishery. The list of species and/or stocks incidentally killed or injured includes “serious” and “non-serious” documented injuries as described later in the List of Species and/or Stocks Incidentally Killed or Injured in the Pacific Ocean and List of Species and/or Stocks Incidentally Killed or Injured in the Atlantic Ocean, Gulf of Mexico, and Caribbean sections. To determine which species or stocks are included as incidentally killed or injured in a fishery, NMFS annually reviews the information presented in the current SARs and injury determination reports. SARs are brief reports summarizing the status of each stock of marine mammals occurring in waters under U.S. jurisdiction, including information on the identity and geographic range of the stock, population statistics related to abundance, trend, and annual productivity, notable habitat concerns, and estimates of human-caused mortality and serious injury (M/SI) by source. The SARs are based upon the best available scientific information and provide the most current and inclusive information on each stock's PBR level and level of interaction with commercial fishing operations. The best available scientific information used in the SARs and reviewed for the 2023 LOF generally summarizes data from 2015-2019. NMFS also reviews other sources of new information, including injury determination reports, bycatch estimation reports, observer data, logbook data, stranding data, disentanglement network data, fishermen self-reports (i.e., MMPA mortality/injury reports), and anecdotal reports from that time period. In some cases, more recent information may be available and used in the LOF.

For fisheries with observer coverage, species or stocks are generally removed from the list of marine mammal species and/or stocks incidentally killed or injured if no interactions are documented in the 5-year timeframe summarized in that year's LOF. For fisheries with no observer coverage and for observed fisheries with evidence indicating that undocumented interactions may be occurring (e.g., fishery has low observer coverage and stranding network data include evidence of fisheries interactions that cannot be attributed to a specific fishery) species and stocks may be retained for longer than 5 years. For these fisheries, NMFS will review the other sources of information listed above and use its discretion to decide when it is appropriate to remove a species or stock.

Where does NMFS obtain information on the level of observer coverage in a fishery on the LOF?

The best available information on the level of observer coverage and the spatial and temporal distribution of observed marine mammal interactions is presented in the SARs. Data obtained from the observer program and observer coverage levels are important tools in estimating the level of marine mammal mortality and serious injury in commercial fishing operations. Starting with the 2005 SARs, each Pacific and Alaska SAR includes an appendix with detailed descriptions of each Category I and II fishery on the LOF, including the observer coverage in those fisheries. For Atlantic fisheries, this information can be found in the LOF Fishery Fact Sheets. The SARs do not provide detailed information on observer coverage in Category III fisheries because, under the MMPA, Category III fisheries are not required to accommodate observers aboard vessels due to the remote likelihood of mortality and serious injury of marine mammals. Fishery information presented in the SARs' appendices and other resources referenced during the tier analysis may include: level of observer coverage; target species; levels of fishing effort; spatial and temporal distribution of fishing effort; characteristics of fishing gear and operations; management and regulations; and interactions with marine mammals. Copies of the SARs are available on the NMFS Office of Protected Resources website at: https://www.fisheries.noaa.gov/national/marine-mammal-protection/marine-mammal-stock-assessment-reports-region. Information on observer coverage levels in Category I, II, and III fisheries can be found in the fishery fact sheets on the NMFS Office of Protected Resources' website: https://www.fisheries.noaa.gov/national/marine-mammal-protection/list-fisheries-summary-tables. Additional information on observer programs in commercial fisheries can be found on the NMFS National Observer Program's website: https://www.fisheries.noaa.gov/national/fisheries-observers/national-observer-program.

How do I find out if a specific fishery is in Category I, II, or III?

The LOF includes three tables that list all U.S. commercial fisheries by Category. Table 1 lists all of the commercial fisheries in the Pacific Ocean (including Alaska); Table 2 lists all of the commercial fisheries in the Atlantic Ocean, Gulf of Mexico, and Caribbean; and Table 3 lists all U.S. authorized commercial fisheries on the high seas. A fourth table, Table 4, lists all commercial fisheries managed under applicable TRPs or take reduction teams (TRT).

Are high seas fisheries included on the LOF?

Beginning with the 2009 LOF, NMFS includes high seas fisheries in Table 3 of the LOF, along with the number of valid High Seas Fishing Compliance Act (HSFCA) permits in each fishery. As of 2004, NMFS issues HSFCA permits only for high seas fisheries analyzed in accordance with the National Environmental Policy Act (NEPA) and the Endangered Species Act (ESA). The authorized high seas fisheries are broad in scope and encompass multiple specific fisheries identified by gear type. For the purposes of the LOF, the high seas fisheries are subdivided based on gear type (e.g., trawl, longline, purse seine, gillnet, troll, etc.) to provide more detail on composition of effort within these fisheries. Many fisheries operate in both U.S. waters and on the high seas, creating some overlap between the fisheries listed in Tables 1 and 2 and those in Table 3. In these cases, the high seas component of the fishery is not considered a separate fishery, but an extension of a fishery operating within U.S. waters (listed in Table 1 or 2). NMFS designates those fisheries in Tables 1, 2, and 3 with an asterisk (*) after the fishery's name. The number of HSFCA permits listed in Table 3 for the high seas components of these fisheries operating in U.S. waters does not necessarily represent additional effort that is not accounted for in Tables 1 and 2. Many vessels/participants holding HSFCA permits also fish within U.S. waters and are included in the number of vessels and participants operating within those fisheries in Tables 1 and 2.

HSFCA permits are valid for 5 years, during which time Fishery Management Plans (FMPs) can change. Therefore, some vessels/participants may possess valid HSFCA permits without the ability to fish under the permit because it was issued for a gear type that is no longer authorized under the most current FMP. For this reason, the number of HSFCA permits displayed in Table 3 is likely higher than the actual U.S. fishing effort on the high seas. For more information on how NMFS classifies high seas fisheries on the LOF, see the preamble text in the final 2009 LOF (73 FR 73032; December 1, 2008). Additional information about HSFCA permits can be found at https://www.fisheries.noaa.gov/permit/high-seas-fishing-permits.

Where can I find specific information on fisheries listed on the LOF?

Starting with the 2010 LOF, NMFS developed summary documents, or fishery fact sheets, for each Category I and II fishery on the LOF. These fishery fact sheets provide the full history of each Category I and II fishery, including: when the fishery was added to the LOF; the basis for the fishery's initial classification; classification changes to the fishery; changes to the list of species and/or stocks incidentally killed or injured in the fishery; fishery gear and methods used; observer coverage levels; fishery management and regulation; and applicable TRPs or TRTs, if any. These fishery fact sheets are updated after each final LOF and can be found under “How Do I Find Out if a Specific Fishery is in Category I, II, or III?” on the NMFS Office of Protected Resources' website: https://www.fisheries.noaa.gov/national/marine-mammal-protection/marine-mammal-protection-act-list-fisheries, linked to the “List of Fisheries Summary” table. NMFS is developing similar fishery fact sheets for each Category III fishery on the LOF. However, due to the large number of Category III fisheries on the LOF and the lack of accessible and detailed information on many of these fisheries, the development of these fishery fact sheets is taking significant time to complete. NMFS began posting Category III fishery fact sheets online with the LOF for 2016.

Am I required to register under the MMPA?

Owners of vessels or gear engaging in a Category I or II fishery are required under the MMPA (16 U.S.C. 1387(c)(2)), as described in 50 CFR 229.4, to register with NMFS and obtain a marine mammal authorization to lawfully take marine mammals incidental to commercial fishing operations. The take of threatened or endangered marine mammals requires an additional authorization. Owners of vessels or gear engaged in a Category III fishery are not required to register with NMFS or obtain a marine mammal authorization.

How do I register, renew and receive my Marine Mammal Authorization Program authorization certificate?

NMFS has integrated the MMPA registration process, implemented through the Marine Mammal Authorization Program (MMAP), with existing state and Federal fishery license, registration, or permit systems for Category I and II fisheries on the LOF. Participants in these fisheries are automatically registered under the MMAP and are not required to submit registration or renewal materials.

In the Pacific Islands, West Coast, and Alaska regions, NMFS will issue vessel or gear owners an authorization certificate via U.S. mail or with their state or Federal license or permit at the time of issuance or renewal. In the Greater Atlantic and Southeast Regions, NMFS will issue vessel or gear owners an authorization certificate via U.S. mail automatically at the beginning of each calendar year.

Vessel or gear owners who participate in fisheries in these regions and have not received authorization certificates by the beginning of the calendar year, or with renewed fishing licenses, must contact the appropriate NMFS Regional Office (see FOR FURTHER INFORMATION CONTACT). Authorization certificates may also be obtained by visiting the MMAP website https://www.fisheries.noaa.gov/national/marine-mammal-protection/marine-mammal-authorization-program#obtaining-a-marine-mammal-authorization-certificate.

The authorization certificate, or a copy, must be on board the vessel while it is operating in a Category I or II fishery, or for non-vessel fisheries, in the possession of the person in charge of the fishing operation (50 CFR 229.4(e)). Although efforts are made to limit the issuance of authorization certificates to only those vessel or gear owners that participate in Category I or II fisheries, not all state and Federal license or permit systems distinguish between fisheries as classified by the LOF. Therefore, some vessel or gear owners in Category III fisheries may receive authorization certificates even though they are not required for Category III fisheries.

Individuals fishing in Category I and II fisheries for which no state or Federal license or permit is required must register with NMFS by contacting their appropriate Regional Office (see ADDRESSES).

Am I required to submit reports when I kill or injure a marine mammal during the course of commercial fishing operations?

In accordance with the MMPA (16 U.S.C. 1387(e)) and 50 CFR 229.6, any vessel owner or operator, or gear owner or operator (in the case of non-vessel fisheries), participating in a fishery listed on the LOF must report to NMFS all incidental mortalities and injuries of marine mammals that occur during commercial fishing operations, regardless of the category in which the fishery is placed (I, II, or III) within 48 hours of the end of the fishing trip or, in the case of non-vessel fisheries, fishing activity. “Injury” is defined in 50 CFR 229.2 as a wound or other physical harm. In addition, any animal that ingests fishing gear or any animal that is released with fishing gear entangling, trailing, or perforating any part of the body is considered injured, regardless of the presence of any wound or other evidence of injury, and must be reported.

Mortality/injury reporting forms and instructions for submitting forms to NMFS can be found at: https://www.fisheries.noaa.gov/national/marine-mammal-protection/marine-mammal-authorization-program#reporting-a-death-or-injury-of-a-marine-mammal-during-commercial-fishing-operations or by contacting the appropriate regional office (see FOR FURTHER INFORMATION CONTACT). Forms may be submitted via any of the following means: (1) online using the electronic form; (2) emailed as an attachment to nmfs.mireport@noaa.gov; (3) faxed to the NMFS Office of Protected Resources at 301-713-0376; or (4) mailed to the NMFS Office of Protected Resources (mailing address is provided on the postage-paid form that can be printed from the web address listed above). Reporting requirements and procedures are found in 50 CFR 229.6.

Am I required to take an observer aboard my vessel?

Individuals participating in a Category I or II fishery are required to accommodate an observer aboard their vessel(s) upon request from NMFS. MMPA section 118 states that the Secretary is not required to place an observer on a vessel if the facilities for quartering an observer or performing observer functions are so inadequate or unsafe that the health or safety of the observer or the safe operation of the vessel would be jeopardized; thereby authorizing the exemption of vessels too small to safely accommodate an observer from this requirement. However, U.S. Atlantic Ocean, Caribbean, or Gulf of Mexico large pelagics longline vessels operating in special areas designated by the Pelagic Longline Take Reduction Plan implementing regulations (50 CFR 229.36(d)) will not be exempted from observer requirements, regardless of their size. Observer requirements are found in 50 CFR 229.7.

Am I required to comply with any marine mammal TRP regulations?

Table 4 provides a list of fisheries affected by TRPs and TRTs. TRP regulations are found at 50 CFR 229.30 through 229.37. A description of each TRT and copies of each TRP can be found at: https://www.fisheries.noaa.gov/national/marine-mammal-protection/marine-mammal-take-reduction-plans-and-teams. It is the responsibility of fishery participants to comply with applicable take reduction regulations.

Where can I find more information about the LOF and the MMAP?

Information regarding the LOF and the MMAP, including registration procedures and forms; current and past LOFs; descriptions of each Category I and II fishery and some Category III fisheries; observer requirements; and marine mammal mortality/injury reporting forms and submittal procedures; may be obtained at: https://www.fisheries.noaa.gov/national/marine-mammal-protection/marine-mammal-protection-act-list-fisheries, or from any NMFS Regional Office at the addresses listed below:

NMFS, Greater Atlantic Regional Fisheries Office, 55 Great Republic Drive, Gloucester, MA 01930-2298, Attn: Danielle Palmer;

NMFS, Southeast Region, 263 13th Avenue South, St. Petersburg, FL 33701, Attn: Jessica Powell;

NMFS, West Coast Region, Long Beach Office, 501 W Ocean Blvd., Suite 4200, Long Beach, CA 90802-4213, Attn: Dan Lawson;

NMFS, Alaska Region, Protected Resources, P.O. Box 22668, 709 West 9th Street, Juneau, AK 99802, Attn: Suzie Teerlink; or

NMFS, Pacific Islands Regional Office, Protected Resources Division, 1845 Wasp Blvd., Building 176, Honolulu, HI 96818, Attn: Elena Duke.

Sources of Information Reviewed for the 2023 LOF

NMFS reviewed the marine mammal incidental mortality and serious injury information presented in the SARs for all fisheries to determine whether changes in fishery classification are warranted. The SARs are based on the best scientific information available at the time of preparation, including the level of mortality and serious injury of marine mammals that occurs incidental to commercial fishery operations and the PBR levels of marine mammal stocks. The information contained in the SARs is reviewed by regional Scientific Review Groups (SRGs) representing Alaska, the Pacific (including Hawaii), and the U.S. Atlantic, Gulf of Mexico, and Caribbean. The SRGs were established by the MMPA to review the science that informs the SARs, and to advise NMFS on marine mammal population status, trends, and stock structure, uncertainties in the science, research needs, and other issues.

NMFS also reviewed other sources of new information, including marine mammal stranding and entanglement data, observer program data, fishermen self-reports, reports to the SRGs, conference papers, FMPs, and ESA documents.

The LOF for 2023 was based on, among other things, stranding data; fishermen self-reports; and SARs, primarily the final 2021 SARs, which are based on data from 2015-2019. The SARs referenced in this LOF include: 2020 (86 FR 38991; July 23, 2021) and 2021 (87 FR 47385; August 3, 2022). The SARs are available at: https://www.fisheries.noaa.gov/national/marine-mammal-protection/marine-mammal-stock-assessment-reports-region.

Summary of Changes to the LOF for 2023

The following summarizes changes to the LOF for 2023, including the classification of fisheries, fisheries listed, the estimated number of vessels/persons in a particular fishery, and the species and/or stocks that are incidentally killed or injured in a particular fishery. NMFS re-classifies one fishery in the LOF for 2023. NMFS also makes changes to the estimated number of vessels/persons and list of species and/or stocks killed or injured in certain fisheries. Many Category III fisheries on the LOF have never been described in the LOF. While detailed information describing each fishery on the LOF has been included within the SARs for some fisheries, a FMP, TRP, or by state agencies, general descriptive information is also included here to clearly define each fishery that is on the LOF. Since the 2016 LOF (80 FR 58427; September 29, 2015), NMFS has been developing Category III fishery fact sheets that are available online at: https://www.fisheries.noaa.gov/national/marine-mammal-protection/list-fisheries-summary-tables. NMFS is requesting public comment on the fisheries descriptions below to include within the fact sheets. The classifications and definitions of U.S. commercial fisheries for 2023 are identical to those provided in the LOF for 2022 with the changes discussed below. State and regional abbreviations used in the following paragraphs include: AK (Alaska), BBES (Barataria Bay Estuarine System), BSAI (Bering Sea, Aleutian Island), CA (California), FL (Florida), Gulf of Alaska (GOA), HI (Hawaii), OR (Oregon), and WA (Washington).

Commercial Fisheries in the Pacific Ocean

Classification of Fisheries

NMFS proposes to reclassify the Category III Hawaii offshore pen culture fishery to Category II fishery based on a documented monk seal mortality in 2017. A monk seal was found dead in a retired fish pen, which was scheduled for removal from the fishery operation. This mortality resulted in a mean annual estimated mortality and serious injury (M/SI) of 0.2 (4.2 percent of the stock's PBR) for the Hawaii offshore pen culture fishery (Carretta et al., 2021). Therefore, because the estimated M/SI is between 1 and 50 percent of PBR (Tier 2 analysis), NMFS proposes to reclassify the Hawaii offshore pen culture fishery from a Category III to a Category II fishery.

Fishery Name and Organizational Changes and Clarification

NMFS proposes to rename the Category III CA set gillnet (mesh size <3.5 in) fishery to the CA herring set gillnet fishery to indicate herring is the only target species of this fishery.

The fishery targets Pacific herring specifically, operating in and around San Francisco Bay, Crescent City Harbor, Humboldt Bay, and Tomales Bay. California Department of Fish and Wildlife (CDFW) manages this winter fishery running from January 2 until March 15, depending on stock abundance. The traditional product from this fishery, kazunoko, is the roe sac (eggs) removed from the females, which is processed and exported for sale in Japan. There are also local markets for whole herring.

The gear configurations differ in each area where Pacific herring are targeted by gillnets. In San Francisco Bay and Tomales Bay, fishermen use up to two gillnets that are not more than 65 fathoms (390 ft or 118.9 m) long measured at the cork line (float line). The depth of the nets are a maximum of 120 meshes, with mesh size ranging from 2 to 2.5 inches (5.1 to 6.4 cm) maximum. In Crescent City Harbor and Humboldt Bay, fishermen may fish in combination with no more than 150 fathoms (900 ft or 274.3 m) of gillnet. The net depth is also a maximum of 120 meshes deep; however, the mesh size is a minimum of 2.25 inches (5.7 cm) to a maximum of 2.5 inches (6.4 cm). The nets are anchored by 35-pound (15.9 kg) weights on each end and suspended in the water column by attaching buoys on each end. Each buoy is marked with the vessel number.

This is a limited entry fishery, with separate permit caps for each of the four management areas in California. Until recently, San Francisco Bay was managed based on a platoon structure, which separated the fishery into Even and Odd fishing groups based on the permit numbers. Platoons rotated fishing weeks with the first platoon designated by whether the season year is odd or even. New regulations implementing the California Pacific Herring Fishery Management Plan during the 2020-2021 season eliminated the platoon structure. Now, a quota system dictates the maximum catch available to the commercial fishery each season.

NMFS proposes to rename the Category III CA pelagic longline fishery to the West Coast pelagic longline fishery. This fishery is federally-managed, operates outside the U.S. exclusive economic zone (EEZ) and is not associated with the State of California.

This fishery targets bigeye, yellowfin, and skipjack tuna along with opah and other highly migratory species (HMS) in the Eastern Pacific Ocean (EPO) outside of the U.S. EEZ, which extends 3-200 nm (5.6-370.4 km) off the coast. The fishery generally extends south to 20 degrees North latitude, and west to 140 degrees West longitude. Bigeye tuna is normally targeted at depths from anywhere between 250-400 meters (820.2-1312.3 ft) during the daytime.

The gear consists of a 45-60 nm (83.3-111.1 km) long monofilament main line approximately 3.2-3.5 mm (0.1 inch) thick that is set, retrieved, and stored on large hydraulic reels. The main line is suspended at the target fishing depth by orange inflatable floats attached via float lines made of monofilament or braided line. Part of the array used to suspend the main line includes 7 to 9 radio buoys, used to show the location and footprint of the gear on the radar of the fishing vessel. Attached to the main line are 2,000-3,500 monofilament branch lines (usually 15-30 between each float), each 8-15 m (26.2-49.2 ft) in length. These lines culminate in a swivel weight from which a leader line of 0.5-1 m (1.6-3.3 ft) extends to a size 16/0-18/0 baited offset circle hook. The bait used in this fishery consists of either frozen mackerel, saury, sardine, squid, or a combination of all four bait types.

The fishery is managed under the HMS Fishery Management Plant (FMP) by the Pacific Fishery Management Council (PFMC). All U.S West Coast vessels targeting tropical tunas require a Federal HMS permit with a deep-set longline (DSLL) endorsement, and registration with the Inter-American Tropical Tuna Commission (IATTC). Use of either shallow-set or deep-set pelagic longline gear within the U.S. EEZ of the U.S. West Coast is prohibited. The HMS FMP does not permit shallow-set longline (SSLL) fishing, although SSLL vessels fishing under a Hawaii longline permit (under the Pelagics FMP) do make landings into California. Use of a vessel monitoring system (VMS), attendance at protected species workshops, and the possession/use of sea turtle and seabird mitigation gear and safe handling techniques are required. The use of light sticks or any other light emitting devices is prohibited.

The IATTC specifies trip limits (for certain vessel classes/sizes) and yearly catch limits each year for all tuna species in the Convention Area. The West Coast DSLL vessels participating in this fishery are not subject to trip limits due to all of the vessels being under 24 m (78.7 ft) in length; however, these vessels cannot exceed the yearly catch limits set for bigeye tuna and other tuna species. Federal logbooks are required for all fisheries targeting HMS. Observers are mandatory for at least 20 percent of the total trips for the calendar year.

Fishery Descriptions

CA Coonstripe Shrimp Pot Fishery

The Category II CA coonstripe shrimp pot fishery primarily occurs along a relatively narrow depth range, between 20 and 30 fathoms (120-180 ft or 36.6-54.9 m) in northern California and southern Oregon. In California, most of the fishing activity for coonstripe shrimp has taken place within a few miles off Crescent City Harbor with additional effort emerging within the Gulf of the Farallones, although the range of the fishery along the California coast has been expanding recently. The fishery is prohibited from November 1 through April 30. The fishery is relatively new, beginning in 1995.

Fishermen commonly use 300 to 400 traps during the fishing season. The traps are set in strings composed of between 10-30 traps per string, connected to a long line weighted at both ends and marked with a polyball or flagpole. Fishermen tend to leave the strings of traps in the water for several days before tending. Some fishers position their traps at a specific depth, about 25 fathoms (150 ft or 45.7 m), while others vary the depth and prospect as shallow as 12 fathoms (72 ft or 21.9 m). Each trap weighs less than 10 pounds (4.5 kilograms) and is constructed of 1⅜-inch (3.5 cm) mesh wire over a stainless steel frame. The traps are typically 39 inches (1.0 m) in diameter, 16 inches (40.6 cm) tall, and have two entry funnels that are 3 inches (7.6 cm) in diameter.

Every buoy marking a commercial trap, or the end of a string of traps, is marked with a commercial fishing license identification number followed by the letter “C”, which is specific to this fishery.

This is an open access fishery managed by the State of California that varies in fleet size and composition every year. To participate in the commercial fishery, a fisherman must be a registered commercial fisherman, have a commercial vessel registration, and a general trap permit. In addition, fishermen must comply with all California regulations for all pot/trap fisheries regarding size of traps, destructive devices, marking the gear, and trap servicing.

WA Grays Harbor Salmon Drift Gillnet (Excluding Treaty Tribal Fishing) Fishery

The Category III WA Grays Harbor salmon drift gillnet (excluding treaty Tribal fishing) fishery mainly targets salmon (Chinook, coho, and chum) and shad. Grays Harbor, situated just north of Willapa Bay in the southwest corner of Washington, is divided into four distinct management areas shown in the following map: https://wdfw.wa.gov/sites/default/files/2019-02/2012_gh_map.pdf.

It is a fall fishery, open from October 1 to November 30 each year, with time limits set for each area and adjusted for each season depending on fish stock abundance. The time limits include certain days open for fishing each month, with constraints on the specific hours when fishing is allowed on these days.

The net is constructed of synthetic multifilament mesh, which may not exceed 1,500 feet (457.2 m) in length. Nets are attached at one end of the vessel, drifting with the vessel. The mesh size does not exceed 6.5 inches (16.5 cm) in areas 2A, 2B and 2D. In area 2C, the maximum mesh size is 9.0 inches (22.9 cm). The drift times vary depending on the fishing area, tidal condition, and target catch, but are ultimately limited to no more than 45 minutes.

This is a limited entry fishery managed by the Washington Department of Fish and Wildlife (WDFW). However, the PFMC and NMFS co-manage the fishery with WDFW for implementing management actions such as season length, bag limits, and quotas.

WA/OR Mainstem Columbia River Eulachon Gillnet Fishery

The Category III WA/OR Mainstem Columbia River eulachon gillnet fishery targets eulachon (candlefish), which is a member of the typical smelts, in the lower Columbia River downstream from Bonneville Dam. Effort takes place during winter and spring, from December 1 to March 31, to supply both the bait demand for sport sturgeon anglers and the fresh food market. The Columbia River fishery typically drops off dramatically after the eulachon enters the Cowlitz River and other lower Columbia tributaries, as markets fill with fish landed from tributary commercial fisheries. In the past, fishing used to be allowed 7 days a week, but has been restricted to fewer days a week for fishery management.

The fishery is primarily conducted using 2 inch (5.1 cm) stretched bobber gill nets, required under Washington and Oregon rules, which are set during the turn of the tide and during the flood tide when the fish are present at intermediate depths. The nets are suspended below the surface by dropper lines. Usually two or more gillnets are used, each net being fished by repeatedly drifting through the fishing area until the net is full.

Oregon and Washington jointly manage Columbia River fish and fisheries in the transboundary mainstem reaches of the lower basin. Oregon and Washington manage the fishery under the Congressionally-approved Columbia River Compact. The Compact States can open a commercial fishery only with the mutual consent and approbation of both states. The Compact does not restrict the right of either state to adopt regulations that are more conservative than that of the other, though such regulations can be enforced only in the adopting state's waters.

Washington commercial fishermen are required to have a Columbia River smelt license when targeting eulachon for either human consumption or bait-fishing. Oregon does not require a separate smelt license; however, fishermen must possess a commercial fishing license and a commercial fishing boat license. If eulachon are targeted only for bait sales, fishers may purchase a bait-fishing license only instead of a commercial fishing license and a commercial fishing boat license.

WA/OR Lower Columbia River (Includes Tributaries) Drift Gillnet Fishery

The Category III WA/OR lower Columbia River (includes tributaries) drift gillnet fishery targets coho (fin-clipped only), pink, and Chinook salmon from the mouth of the Columbia River upstream to Kelley Point, Oregon. The area of the lower Columbia river where effort occurs is divided into four zones, which includes approximately 140 river miles (225.3 km) available to commercial salmon drift gillnet fishing. A clear depiction of each of the zones can be found at: https://www.dfw.state.or.us/fish/OSCRP/CRM/docs/2013/Columbia%20River%20Commercial%20Zone%201-6%20Map.pdf.

Gear includes multifilament drift gillnets with a maximum length of 150 fathoms (900 ft or 274.3 m), and a maximum mesh size of 3¾ inches (9.5 cm). No slacker or stringer lines may be used to slacken the net vertically, but the gillnet hang ratio is not restricted. The nets may include an optional steelhead excluder device that must adhere to particular specifications if used, including placement of two red corks at each end of the net using one. The soak times are limited to 30 minutes.

This is a limited entry fishery, but permits are transferable if certain requirements are met. Standard regulations include: maximum allowable net length, use of recovery boxes, limited soak times, use of red floats at 25 fathom (150 ft or 45.7 m) intervals, lighted buoys (if fishing occurs at night), and tangle net certification that indicates at least one person on board is able to handle an undersized fish in such a way that it can successfully be released alive. State management observers must be taken upon request.

The fishery is managed in conjunction with other State salmon fisheries, and co-managed with Federal salmon fisheries by the PFMC and NMFS. Catch reporting is required within 24 hours. Targeting white sturgeon and shad is prohibited.

WA Willapa Bay Drift Gillnet Fishery

The Category III WA Willapa Bay drift gillnet fishery targets coho, chum, and Chinook salmon during the fall within Willapa Bay, situated just south of Grays Harbor in the southwest corner of Washington. A detailed depiction of the commercial fishing areas in Washington can be found here: https://wdfw.wa.gov/sites/default/files/2019-02/2013_wb_map.pdf.

Drift gillnets are the only gear allowed in the fishery. These nets must adhere to specific mesh size and length requirements. The net length can be up to 1,500 feet (457.2 m), and the mesh size ranges from a stretched length of 4¼ inches to 6½ inches (10.8-16.5 cm). Mesh size requirements may vary within the various areas, on specific days and at certain times, depending on salmon stock status and size limits. Soak times are limited to 45 minutes.

This is a limited entry fishery managed primarily by the WDFW, in concert with salmon fisheries management by the PFMC and NMFS. The retention of any species other than the intended target species is prohibited, and any encounters with white sturgeon, green sturgeon, and steelhead, has to be reported. The use of recovery boxes to improve survival of fish bycatch is mandatory, with the number and type used depending on the area fished. A vessel operator cannot fish unless they have attended a best fishing practices workshop and have a department issued certification card in their possession at all times while conducting fishing operations. State observers must be taken if requested to do so. Each vessel is allowed to have more than one net on board.

WA/OR Sardine Purse Seine Fishery

The Category III WA/OR sardine purse seine fishery targets Pacific sardines, a coastal pelagic species (CPS), in the water column above the continental shelf off the coast of Oregon and Washington. Federal harvest guidelines for directed fisheries may be allocated across different seasonal periods throughout the year, although effort is generally constrained to time periods of favorable weather during the late spring and summer.

Purse seine gear is the main gear used to harvest CPS. A purse seine is a large wall of netting deployed around an entire school of fish. It consists of floats adhered to the “float line” of the seine with a lead line threaded through rings at the bottom. When a school of target species is located, a skiff will encircle the school with one end of the seine attached to the skiff while the other end is attached to the fishing vessel itself, and circle back to the fishing vessel. Once the skiff reaches the vessel, the lead line at the bottom of the seine is pulled in, “pursing” the net closed on the bottom, thus preventing the fish from escaping when swimming downward.

In Oregon, vessels using purse seine gear to take any CPS except market squid must place a grate over the intake of the hold of the vessel to sort out larger species of fish. None of the openings between the bars in the grate may exceed 2⅜ inches (6.0 cm).

CPS fisheries, including Pacific sardine, are jointly managed by the PFMC and the states of Oregon and Washington. This is an open access fishery, although State permits are required. Pacific sardines (and Pacific mackerel) are actively managed stocks under the Federal CPS FMP with catch limits based on regular stock assessments. For sardine, PFMC establishes harvest guidelines that are allocated by seasonal periods, with releases on July 1st, September 15th and January 1st. If the period allocation is not attained, it and any remaining incidental fishery set aside is rolled to the next period. However, it cannot be rolled into the next fishing year.

The primary directed Pacific sardine fishery has been closed since 2015 because the estimated biomass has been below the harvest cutoff value of 150,000 metric tons. Incidental allowances for sardine are still allowed, along with live bait fishing. Starting in 2018, the CPS FMP has also allowed for “minor” directed fishing for sardines and other CPS when the primary directed fishery has closed. The allowance for minor directed fishing is that no vessel or person may land more than one metric ton per day, and vessels may not make more than one trip per day. Directed purse fishing for Pacific mackerel in Washington requires a State permit that cannot be transferred or stacked (i.e., having more than one permit associated with a single vessel).

CA Tuna Purse Seine Fishery

The Category III CA tuna purse seine fishery targets yellowfin, Pacific bluefin, skipjack, and Pacific bonito mostly caught within Federal waters when the stocks occur in U.S. waters off California.

Purse seines are used, which are large walls of netting deployed around an entire school of fish. Purse seines consist of floats adhered to the “float line” of the seine with a lead line threaded through rings at the bottom. When a school of tuna is located, a skiff will encircle the school with one end of the purse seine attached to the skiff, while the other end is attached to the purse seine vessel. Once the skiff circles around and reaches the purse seine vessel, the lead line at the bottom of the seine is pulled in, “pursing” the net closed on the bottom and preventing the tuna from escaping when swimming downward.

Purse seines in this fishery can be more than 6,500 ft (1981.2 m) in length. The minimum length depends on the length of the purse seine vessel. The maximum depth where fish are targeted is about 300 m (984.3 ft). The mesh size used depends on the species targeted; it is important that the mesh size is not too large, in order to prevent gilling the fish, but is big enough to enable undersized fish to escape. The mesh size for this specific fishery ranges from 2-2¾ inches (5.1-7.0 cm).

All fisheries targeting highly migratory species (HMS), including tuna, require a Federal HMS permit, and additional state permits may apply. This is an open access fishery. The IATTC specifies trip limits and catch limits each year for most target species. Trip limits are based on the cumulative catches for each quarter, and are adjusted accordingly. There is also a requirement to submit, within 24 hours of landing, electronic landings receipts for Pacific bluefin tuna landings in California ports. The IATTC groups purse seine vessels into 2 fleet types, large seiners (Classes 4-6) and small seiners (Classes 1-3). The large seiners are held to more restrictive measures than the small seiners regarding area closures, closure dates, and catch limits. The smaller coastal purse seine vessels that plan to target HMS must register with the IATTC purse seine vessel registry. Logbooks are required, and all logbook and observer data is collected by the IATTC and NMFS. The State of California also requires that no Pacific bluefin tuna weighing less than 7.5 pounds (3.4 kg) may be sold, purchased, or processed.

WA/OR Lower Columbia River Salmon Seine Fishery

The Category III WA/OR Lower Columbia River salmon seine fishery is located in the lower mainstem of the Columbia River in both Oregon and Washington. This includes the stretch of the Columbia River between the Bonneville Dam and the river mouth to the Pacific Ocean. The fishery targets coho and adipose fin-clipped Chinook salmon. The season is from mid-August to late September.

These seine nets are made of 3-strand nylon with a stretched mesh size no larger than 3½ inches (8.9 cm). The seines cannot be longer than 200 fathoms (1,200 ft or 365.8 m) or have a depth greater than 200 meshes. The seine can include a chafing strip panel at the bottom of the net with a maximum panel depth of 5 feet (1.5 m). The chafing mesh cannot be greater than 3.5 inches (8.9 cm) for beach seines, and 5 inches (12.7 cm) stretched for purse seines. Red corks are required at 25 fathom (150 ft or 45.7 m) intervals and must contrast with other corks used on the net.

WDFW and Oregon Department of Fish and Wildlife (ODFW) jointly manage the limited-entry fishery and authorize participants. An Emerging Fishery license and Experimental Fishery Permit from Washington and an Experimental Gear Permit from Oregon are needed to participate. The managers divide the Columbia River into management zones. This fishery historically has taken place in Zones 1-5. Different quota limits are set for adipose fin-clipped Chinook and coho for beach seines and purse seines. Any wild Chinook or steelhead are required to be released. An observer is required by the States if requested.

WA Salmon Reef Net Fishery

The Category III WA salmon reef net fishery targets sockeye, Chinook, pink, coho, and chum salmon within Puget Sound. Currently reef nets are only allowed in an area around the San Juan Islands. The fishery usually starts around mid-September and extends into early November.

Reef nets are suspended between two anchored boats upstream from the river mouth that the salmon use to pass through on their way to freshwater spawning grounds. The bottom ropes are much lower than the bunt to create an incline, which gradually raises up to catch the salmon when passing over the net. The lead lines of the reef net are floating at all times in order to keep the net suspended at its required target depth. Reef nets are set so that the dominant daytime tide, “flood” tide, pushes the salmon to follow the lead lines over webbing and into the bunt of the net. Streamers are woven into the side and bottom ropes in order to potentially trick salmon by giving the illusion of an eelgrass bed. The net is pulled to the surface by a system of battery powered winches, all salmon trapped in the bunt are maneuvered into a live well of the outside vessel. The vessels and gear are anchored in one place for the duration of the summer or fall fishing seasons and set year after year in the same locations. The nets cannot be anchored to pilings. The reef nets are a maximum of 300 meshes on either side, have only two leads, and the mesh size is equal to or greater than 3.5 inches (8.9 cm). The leads are a maximum of 200 feet (61.0 m) in length from the anchor boat bows to the nearest end of the head buoys.

The fishery requires a limited entry permit that is transferable. WDFW, Puget Sound Treaty Tribes, and NMFS jointly manage salmon harvest, generally through season openings, mesh size limits, and limits regarding the amount of time and effort is allowed each day or night within the various areas. A portion of the fishery is managed by the Fraser River Panel, which is composed of representatives from the U.S. and Canada.

Fishermen cannot keep any unmarked (clipped adipose fin and a healed scar at the site of the clipped fin) Chinook during the season or any chum caught before October 1st. Fishermen must attend a fish friendly workshop to fish in certain areas. Fishermen must submit logbooks to WDFW for any retained Chinook salmon. Every fisherman is required to report lost netting to WDFW. Emergency regulation and in-season changes can occur based on stock allocations and conservation objectives.

CA Squid Dip Net Fishery

The Category III CA squid dip net fishery targets market squid in nearshore waters, typically over sandy bottom habitat. Generally, the fishery north of Point Conception, mainly around Monterey Bay, operates from April through September. The fishery south of Point Conception is most active from October through March. The fishery is closed during the weekends (from Friday noon until Sunday noon) to allow for uninterrupted spawning. The majority of the fishing effort takes place at night relatively close to shore. Landings decrease during warm water trends of El Niño years, as squid are affected by warm waters associated with these ecosystem conditions. Strong El Niño periods can lead to substantial reductions in primary production. Catches usually increase during cooler La Niña phases and periods of increased upwelling.

Brail gear such as dip nets and scoop nets are used to harvest market squid in this fishery. Both of these are similar types of hand nets, which consists of a net or mesh basket, made from either wire, nylon mesh or cloth mesh, held open by a hoop. This hoop may or may not be connected to a handle that can differ in length. Generally speaking, hand nets with the hoop attached to a long handle are called dip nets and hand nets with no handle are called a scoop net. Lights of up to 30,000 watts may be used to attract squid.

Market squid is included under the PFMC CPS FMP, which specifies a management framework for all CPS. However, since 2005, this fishery is principally managed by the State of California under the Market Squid Fishery Management Plan (MSFMP). The squid brail fishery is a restricted access fishery, consisting of transferable and non-transferable market brail permits that must be renewed annually. There is also a market squid vessel permit that authorizes the use of round haul gear, including purse seine, drum seine, and lampara nets, along with use of brail gear. To use light to aggregate squid for commercial harvest, either a market squid brail permit, market squid vessel permit, or a market squid light boat permit is required. No permit is required for the transfer of squid at sea for live bait in an amount less than 200 pounds (90.7 kg) in a calendar day.

WA/OR/CA Albacore Surface Hook and Line/Troll Fishery

The Category III WA/OR/CA albacore surface hook and line/troll fishery targets North Pacific albacore tuna with troll or poll and line gear. This fishery is active throughout the continental west coast of the U.S. Prior to 2000, fishing for albacore was common off California. However, the stock has moved north, making Oregon and Washington the current focus for albacore tuna trolling on the West Coast. Fishing generally occurs 30-100 nautical miles (55.6-185.2 km) offshore. While fishing for albacore tuna is allowed year round, most effort occurs from late summer to early fall when fish are present in the area due to warm currents in the region. Surface albacore tuna fishing focuses on juvenile tuna that are found at or near the surface.

Two types of hook and line gear configurations are generally used along the West Coast for albacore tuna fishing. Troll includes one or more lines with lures or baited hooks attached that are drawn (“trolled”) through the water column. Pole-and-Line use rigid rods or poles with lines and baited hooks.

The majority of fishermen that troll for surface albacore tuna tow 10-20 lines. The lines are pulled through the surface waters at speeds of 4-8 knots (7.4-14.8 km/hr) to attract the albacore. Trollers that fish inshore use smaller boats (30-50 ft or 9.1-15.2 m in length) and spend 1 to 3 weeks at sea. Offshore fishermen use larger boats (50-90 ft or 15.2-27.4 in length) and spend 1 to 2 months at sea.

Both gears are open access and require a Federal HMS permit in addition to a state commercial fishing permit. The fishery is managed under the HMS FMP by the PFMC. HMS permits are issued to a specific vessel, are non-transferable, and are valid for two years. Federal logbooks are required.

The albacore fishery is also managed by two international organizations, the IATTC and the Western and Central Pacific Fisheries Commission. Additionally, the U.S.-Canada Albacore Treaty bilateral agreement allows for U.S. vessels to fish for albacore tuna in Canadian waters seaward of 12 nautical miles (22.2 km) from shore, and allows Canadian vessels to fish for albacore tuna in U.S. waters seaward of 12 nautical miles (22.2 km) from shore. The treaty also allows Canadian vessels to use certain U.S. ports to obtain supplies and services and to land fish. Similarly, it allows U.S. vessels to use certain Canadian ports for the same purposes. In addition, the treaty calls for the exchange of fisheries data between the two governments. U.S. vessels wishing to fish in Canadian waters pursuant to the treaty must register with NMFS seven days prior to the first planned fishing day in Canada.

CA/OR/WA Salmon Troll Fishery

The Category III CA/OR/WA salmon troll fishery primarily targets Chinook and coho salmon in Oregon and Washington. Retention of coho salmon is prohibited in California, leaving Chinook as the primary target for the California fishery. Pacific halibut may also be caught and landed incidentally in all three states under an incidental take permit. Effort occurs across all three U.S. West Coast States, primarily during the summer and fall, with limited effort occurring during the spring in certain areas during certain years. In California, the majority of effort takes place in the central and northern coast, but can extend all the way into the Southern California Bight. Generally, most of the salmon trolling effort occurs within 15-20 nautical miles (27.8-37.0 km) from shore including both State and Federal waters.

Trollers fish for salmon by towing lures or baited hooks through the water. Fishing lines are rigged to outriggers that prevent the lines from being entangled or caught in the vessel prop. Up to six stainless steel lines are fished from each outrigger, each of these lines containing up to four baited hooks or lures weighted to depth by 10-50 pound (4.5-22.7 kg) weights. The barbless lures can be fished from just under the surface, down to 80 fathoms (480 ft or 146.3 m), trolled at speeds of 1-4 knots (1.9-7.4 km/hr). Natural bait used includes anchovy or herring. Fishing depth, troll speed, type of lure, and area fished all help to determine the number and species of salmon caught. For example, Chinook salmon are generally caught deeper than coho salmon.

Ocean salmon fisheries conducted off of California, Oregon, and Washington are managed under the Federal Pacific Coast Salmon FMP along with individual state regulations. The Salmon FMP provides a framework for managing ocean salmon fisheries in a sustainable manner as required under the Magnuson-Stevens Fishery Conservation and Management Act through the use of conservation objectives, annual catch limits, and other status determination criteria described in the FMP. Fishermen in all three U.S. West Coast states are issued limited entry permits. It is important to note that quota and size limits change every season, as do the timing and duration of seasons, depending on stock assessments and other management considerations.

WA/OR/CA Groundfish, Bottomfish Longline/Set Line Fishery

The Category III WA/OR/CA groundfish, bottomfish longline/set line fishery primarily targets sablefish using bottom longline gear, especially during the main season from April through October, however, rockfish are also targeted. There are over 60 different species of rockfish that may be taken, although a handful of species make up the majority of the catch. This includes thornyheads, rougheye, and blackgill rockfish. Other species commonly landed include lingcod, grenadier, and skates. The fishery takes place all along the U.S. West Coast at depths that range from 11-722 fathoms (66-4,332 ft or 20.1-1, 20.4 m).

The gear consists of a mainline made of multifilament line/rope or monofilament line that is typically spooled on a hydraulic drum and set from the stern of a vessel. The main line extends for up to two nautical miles horizontally along the seafloor. It can be fitted with up to 2,000 small gangions tied at intervals along the mainline terminating in a baited hook. The longline is marked on the ocean surface with a float and flagpole at each end that is anchored to the sea floor. Any gear that is not attached to the vessel must be attached to buoys floating on the surface and marked on the upper half with the commercial fishing license identification number at least 2 inches (5.1 cm) in height.

Three options exist under which sablefish or other groundfish such as rockfish may be the target species or incidentally taken. These include: a limited entry permit with fixed gear endorsement and a sablefish quota; a limited entry permit with fixed gear endorsement without a sablefish quota that includes trip limits for different species; and an open access fishery that includes trip limits for different species. Recent regulations in the Groundfish Catch Share sector permit trawl fishermen with Individual Fishery Quotas to harvest sablefish or other groundfish by using other gear types (aka gear switching) that include bottom longlines. There are applicable Federal and state regulations that describe where fishing can take place, including various area and time closures (e.g., Rockfish Conservation Areas).

CA Halibut Bottom Trawl Fishery

The Category III CA halibut bottom trawl fishery generally targets California halibut in Federal waters predominantly off central California from Point Reyes southward to Point Sal, and throughout the Southern California Bight. Very little effort occurs in northern California. While this is primarily a daytime fishery, some activity occurs at night.

The majority of effort in southern California occurs within the California Halibut Trawl Grounds (CHTG), which is limited to State of California waters from 1-3 nm (1.9-5.6 km) along the mainland shore between Port Arguello and Point Mugu. There are four sub-areas within the CHTG that are permanently closed, resulting in roughly 87 percent of the CHTG available for fishing during the allowable trawl season from June 16 to March 14, though not all of that 87 percent is fishable due to bottom debris and obstructions left from oil extraction or rocky reefs. Trawling for California halibut can be conducted year round in Federal waters, but is prohibited in State of California waters outside the CHTG.

Vessels use otter trawl gear consisting of two doors, with one door deployed on each side of the net to spread the mouth of the net open. The mouth of the net is held open vertically with floats attached to the head rope (top of the net) and weights on the footrope (bottom of the net). The majority of trawlers in southern California use a “dropped-loop” style chain that consists of chain link loops that hang from the footrope to provide weight, while decreasing the surface area that comes in contact with the bottom.

Only light touch trawl gear adhering to the following gear specifications may be used to catch California halibut in the CHTG. The gear must consist of trawl doors weighing no more than 500 pounds (226.8 kg). The headrope can only be up to 90 feet (27.4 m) in length and may consist of chain, rope, or wire. The footrope may consist of rope or wire. Any chain attached to the footrope shall not exceed ¼ inch (0.6 cm). There are no rollers or bobbins on the footrope. The webbing material itself is up to 7 mm (0.3 inches) in diameter, and the mesh size for the codend is a minimum of 7.5 inches (19.1 cm). When trawling in Federal waters, the codend net mesh size is a minimum of 4.5 inches (11.4 cm).

This is a state managed fishery requiring a limited entry non-transferable California halibut bottom trawl vessel permit and a commercial fishing license. The minimum size limit is 22 inches (55.9 cm) total length for landed California halibut. Logbook reporting is mandatory.

When targeting California halibut in Federal waters, trawlers are subject to Federal groundfish regulations such as conservation area restrictions and requirements, daily and monthly incidental trip limits for groundfish species, Federal at-sea observer coverage, and a vessel monitoring system requirements to monitor compliance with closed areas. There is no limit on the amount of catch that can be landed under a California halibut permit; however, individuals who possess a Federal groundfish trawl permit, but not a halibut trawl permit, can only land up to a 150 pounds (68.0 kg) of California halibut incidentally.

CA Sea Cucumber Trawl Fishery

The Category III CA sea cucumber trawl fishery predominantly targets the California sea cucumber/giant red sea cucumber, although warty sea cucumber is also harvested on rare occasions. Trawling for any sea cucumber is only allowed in Southern California, from Point Conception to San Diego. The trawl fishery operates primarily in waters between depths of 30-70 fathoms (180-420 ft or 54.9-128.0 m), with an average depth of 45 fathoms (270 ft or 82.3 m).

Trawling for California sea cucumber is open year round in Federal waters. Any trawling for warty sea cucumber is closed for fishing in Federal waters from March 1 until June 14. Sea cucumber trawling is closed in the CHTG, which comprise California State waters not less than one nm from shore between Point Arguello and Point Mugu, from March 1 until June 15. Additional information regarding Federal area closures can be found at: https://www.fisheries.noaa.gov/west-coast/sustainable-fisheries/west-coast-groundfish-closed-areas.

In California, trawl nets consist of either single-walled or double-walled cod ends deployed via a single or double rigged trawl vessel with mesh sizes ranging from 1.75-2.25 inches (4.5-5.7 cm). In Federal waters, trawl nets used to take California sea cucumber must follow a minimum allowable mesh size of 4.5 inches (11.4 cm). In the CHTG, use of “light touch” trawl gear is required.

The California sea cucumber fishery is a limited entry fishery managed by the State of California with transferable permits. There are currently no catch limits, or other size/sex-based restrictions. Historically, it was viewed as an incidental species taken in the California halibut and ridgeback prawn trawl fisheries. When separate sea cucumber dive and trawl permits were established in 1997, a provision was created that allowed individuals purchasing a sea cucumber trawl permit to either keep the permit as a trawl permit or convert the permit into a dive permit. The conversion of a sea cucumber dive permit to a trawl permit is not permissible. The permit is tied to the operator, and there is a requirement to submit a daily trawl log.

WA/OR/CA Shrimp Trawl Fishery

The Category III WA/OR/CA shrimp trawl fishery in all three U.S. West Coast states generally occurs in Federal waters (3-200 nm or 5.6-370.4 km); however, there is a small amount of effort in Oregon state waters. The main target in the coastal fishery is pink shrimp, although other shrimp species such as ridgeback and golden prawns are landed as well. Pink shrimp are generally caught at depths of between 40-150 fathoms (240-900 feet or 73.2-274.3 m) on sandy and muddy bottoms during daylight hours due to their vertical migration to the ocean floor during the day. The fishery is closed in all three states from November 1 through March 31. The main target in the coastal fishery in southern California south of Point Conception is ridgeback prawn, and this species is caught at depths between 10-110 fathoms (60-660 ft or 18.3-201.2 m) on sandy and muddy bottoms. The fishery for ridgeback and golden prawns in southern California is closed from June 1 through September 31.

Fishing effort also occurs in Puget Sound, Washington. The Puget Sound shrimp trawl focuses on northern pink shrimp in the Strait of Juan de Fuca. The main target species in the San Juan Islands are coonstripe shrimp, northern pink shrimp, and sidestripe shrimp, although humpback shrimp can compose a large portion of the catch in some years. The season generally takes place from May 1 through September 30 in the Strait of Juan de Fuca and from May 16 to October 15 in the San Juan Islands. Trawling cannot occur in waters shallower than 100 feet (30.5 m) in Puget Sound.

In California, Oregon, and Washington, benthic trawl gear is used. In Northern California, Oregon, and Washington, double rigged (i.e., having two otter trawl nets) vessels with semi-pelagic fine-meshed shrimp nets are used the majority of the time. In southern California, single rigged (one net) vessels are most common. The net contains a footrope (roller/ladder style) on average 25 feet (7.6 m) in length, configured in such a way that it is elevated above the sea floor at 1-3 feet (0.3-0.9 m).

A bycatch reduction device (BRD) consisting of either a rigid gate excluder (preferred) or a soft-panel excluder, along with footrope lighting devices, can be mandatory constituents of the gear configurations as well. The minimum mesh size for California shrimp and prawn trawl fisheries is 1 ⅜ inches (3.5 cm) while it is 1 ½ inches (3.8 cm) in Puget Sound. Only beam trawls are allowed in Puget Sound; in the Strait of Juan de Fuca, the maximum beam size is 60 feet (18.3 m), while the maximum beam size in the San Juan Islands is 25 feet (7.6 m).

The fishery is principally State-managed across the U.S West Coast, with different permitting, landing, and mesh size requirements depending upon location. California, Oregon, and Washington share mandatory Federal regulations limiting the take of eulachon, salmon and groundfish species that commonly occur as incidental catch. The coastal shrimp fishery requires a limited entry shrimp trawl fishery permit in all three respective states, except that the southern pink shrimp fishery (south of Pt. Conception) and ridgeback prawn fisheries are both open access fisheries. The States of Washington, Oregon, and California established a common season and a maximum count of 160 pink shrimp per pound (72 per kg) regulation to minimize regulatory conflict. Daily and monthly trip limits, logbooks, use of a vessel monitoring system, onboard observer coverage and area restrictions regarding groundfish essential fish habitat (EFH) is also mandatory.

The harvest of shrimp in Puget Sound is co-managed by Washington State and the Puget Sound Treaty Tribes. The fishery is managed by emergency regulation and is permanently closed unless opened by emergency regulation. Fishing in the area requires a limited entry Puget Sound shrimp trawl license. Specific quotas are established each year for the Strait of Juan de Fuca and the San Juan Islands. State fishery observers are required on 10 percent of the commercial shrimp trawl trips in Puget Sound. BRDs to decrease bycatch of spot shrimp are not required, but are encouraged and utilized by some participating vessels. License holders must maintain shrimp beam trawl logbooks.

WA/OR/CA Groundfish Trawl Fishery

The Category III WA/OR/CA groundfish trawl fishery occurs year round in Federal waters (3-200 nm or 5.6-370.4 km) off Washington, Oregon, and California. There are two sectors; namely the Pacific whiting (whiting) and non-Pacific whiting sector. The whiting sector generally targets whiting farther off the coast than other groundfish species. Fishing consists of catcher-processor vessels that catch and process whiting, whereas motherships receive whiting from other vessels and process it. Shore-side vessels catch and deliver whiting to a shore-side plant for processing.

The non-whiting sector targets a variety of groundfish species, with the main and most profitable being sablefish, widow rockfish, yellowtail rockfish, thornyheads, Dover sole, petrale sole, and lingcod. The bulk of the biomass resulting from this fishery is caught off Oregon and Washington. Trawling is not allowed in Rockfish Conservation Areas (RCA), Cowcod Conservation Areas, and EFH designated areas.

Trawl gear is a cone or funnel-shaped net either towed through the water column or drawn over the ocean floor by the vessel. Two types of trawl gear are used in this fishery: midwater and bottom trawl nets. The gear used to target whiting is midwater trawl nets. In the non- whiting sector, midwater trawl and bottom trawl nets are used to target groundfish. Midwater trawl gear is primarily used to target widow and yellowtail rockfish, while bottom trawlers typically target sablefish, Dover sole, thornyheads and other flatfish species.

Large footrope gear with a diameter larger than eight inches (20.3 cm) allows bottom trawlers to access rockier areas by bouncing the bottom of the trawl net over larger obstructions without tearing. Small footrope gear with a diameter of eight inches (20.3 cm) or smaller is also used on bottom trawls. Pelagic trawl gear has unprotected footrope gear that is not encircled with chains, rollers, bobbins, or other material. Bottom trawl nets are required to have a minimum mesh size of 4½ inches (11.4 cm), and pelagic trawl nets are required to have a minimum mesh size of 3 inches (7.6 cm).

The fishery is jointly managed by NMFS and U.S. West Coast states through the PFMC. There also exists a bilateral Pacific Whiting Agreement between the U.S. and Canada for managing the Pacific whiting coastal stock. A transferable, limited entry west coast trawl permit known as a “Catch Shares” permit that involves an Individual Fishery Quota system, is required in order to participate in this fishery. Federal observer coverage, logbooks, and vessel monitoring systems are mandatory.

All U.S. commercial fishing vessels are required to have permits from the appropriate state agency in order to land groundfish in Washington, Oregon, and California. The use of bottom trawl footrope gear with a footrope diameter larger than 19 inches (48.3 cm) is prohibited. Only small footrope gear is allowed shoreward of a line approximating the 100 fathom (600 ft or 182.9m) depth contour, which is intended to reduce trawl access to newly-designated overfished species and their rockier habitats. States may implement parallel measures within their state waters (0-3 nm or 0-5.6 km).

WA/OR/CA Hagfish Pot Fishery

The Category III WA/OR/CA hagfish pot fishery targets Pacific hagfish and black hagfish. Even though hagfish generally occur as shallow as 9 fathoms (54 ft or 16.5 m), hagfish are found across most of the outer continental slope in marketable quantities. Hagfish are generally found in muddy substrate, but may occupy a variety of bottom types.

In Washington, the fishery is open year round in Pacific Ocean waters only, and effort is prohibited in waters less than 50 fathoms (300 ft or 91.4 m). In Oregon, the fishery is open year round, and there is no depth limit at which the fish may be targeted. The ports with the most landings are on the south coast of Oregon. The fishery peaks during spring and fall, with less effort during the winter. In California, the fishery is open year round, but similar to Oregon it peaks during the spring and fall with less effort in the winter due to poor weather and fishermen participating in the Dungeness crab fishery. There is no depth limit to where the fish may be targeted, but high hagfish densities are generally located in deeper waters. Effort occurs statewide from southern California to northern California.

The gear consists mostly of high-volume buckets (5 gallon or 18.9 liters) or barrel gear (large plastic drums with removable ends), although Korean-style traps are also used. Korean-style traps are small and tubular traps with little volume; as a result, hundreds are needed to achieve a marketable yield. All traps consist of an opening (entrance tunnel), with some states requiring specified dimensions, a cavity drilled with a number of smaller holes (dewatering and escape holes), and at least one escape exit, with some states requiring specified dimensions.

In Washington, no more than a 100 barrels or buckets are used at any one time. They can be set individually or strung together by a common ground line. The entrance tunnel is no larger than 11 inches² (71.0 cm²) and can be any shape. There must be at least one escape exit that has an opening of no less than 9½ inches² (61.3 cm²). The gear is marked with buoys equipped with a pole, flag, radar reflector and a light. When ground lines are used, the end marker buoys display the identification number of the permittee and the number of pots on the ground line.

In Oregon, fishermen use barrel gear, setting up to 200 barrels. There is no minimum size requirement for the escape hole, but the use of a hole with ⅝ inch (1.6 cm) in diameter is nearly universal. A groundline with 10-25 barrels is set and soaked for 4 or more hours. The biodegradable opening has a minimum diameter of 3 inches (7.6 cm).

In California, fishermen can use (gear limited per vessel) 25 barrels, 200 buckets, or 500 Korean-style traps, but never a combination of gear types. The escape holes are at least 9/16 inches (1.4 cm) in diameter to allow smaller hagfish to escape. Barrels are 45 inches (114.3 cm) long and the diameter is 25 inches (63.5 cm) or less. Barrels may be attached to a maximum of three groundlines. There is no limitation on the number of bucket groundlines. Marking buoys must have the fisherman's commercial license number and vessel commercial registration number.

In Washington, the fishery is open access managed as a trial fishery under the state's Emerging Commercial Fishery Act requiring an emerging commercial fishery license and a hagfish pot trial fishery permit. There is no limit to the amount of hagfish that can be landed, although no incidental catch of other species is allowed. Fishermen must notify the state 24 hours in advance of landing for dockside sampling, and must submit logbooks once a month.

In Oregon, the fishery is a state-managed open access fishery requiring a hagfish permit and submission of logbooks quarterly. An annual harvest guideline of 1.6 million pounds (726,000 kg) exists for the state, which could trigger additional management measures.

In CA, the fishery is a state-managed open access fishery requiring a general trap permit for all participants. Logbooks are not required.

WA/OR Shrimp Pot/Trap Fishery

The Category III WA/OR shrimp pot/trap fishery targets coonstripe shrimp and spot shrimp in both Oregon and Washington. However, humpback and pink shrimp are also targeted to a lesser degree in Washington. Shrimp pot fishing in Oregon, which primarily takes place near the Oregon/Washington border, is allowed year round although most landings occur in the spring and summer months. Limited fishing effort in southern Oregon has only recently developed in the last few years.

Shrimp pot fishing in Washington (generally divided into a spot shrimp and non-spot shrimp pot fishery) is managed as separate fisheries with the coastal Washington shrimp pot fishery west of the Bonilla-Tatoosh line and the Puget Sound fishery east of the Bonilla-Tatoosh line. Coastal shrimp pot fishing generally occurs 20-40 miles (37.0-74.1 km) offshore at depths of 70 to 100 fathoms (420-600 ft or 128.0-182.9 m). Puget Sound is divided into 6 management regions. Commercial fishing in Puget Sound can only commence once the recreational seasons have ended, generally running from early July through September. Effort is concentrated in the Strait of Juan de Fuca and near the San Juan Islands for both spot shrimp and non-spot shrimp, but a limited amount of fishing also occurs in Central Puget Sound.

In Oregon, traps are tapered and circular in shape, with a ½-inch (1.3 cm) square cord mesh over a steel frame 39 inch (99.1 cm) diameter and 16 inches (40.6 cm) tall. The entrance tunnels must be between 1.5 and 3 inches (3.8 and 7.6 cm) at the widest point. The law requires a destructive device on traps that degrades rapidly enough to facilitate escape of a substantial proportion of all species confined in the trap from any trap that cannot be raised. The typical configuration involves a set of 10-15 traps connected to a long line weighted at both ends and marked with a polyball or flagpole. In Oregon and coastal Washington, each terminal end must be marked with a pole, flag, light, radar reflector, and a buoy showing clear identification of the owner or operator.

In coastal Washington, pots/traps cannot have a bottom perimeter greater than 153 inches (12.85 ft or 3.9 m) or a height greater than 24 inches (61.0 cm). The minimum mesh size is ⅞ inch (2.2 cm). All pots are required to have an escape mechanism. A string of up to 50 pots is typical. The pots are left to soak for a minimum of 24 hours. In Puget Sound, the maximum pot perimeter is 10 feet (3.0 m) and a maximum height of 18 inches (45.7 cm). The minimum mesh size is ½ inch (1.3 cm), although a 1⅛ inch (2.9 cm) stretch measure is allowable for flexible mesh pots, and shrimp pot buoys are required to be orange.

In Oregon, the shrimp pot fishery is an open access permit fishery with minimum landing size requirements and obligations to retain and land all target species, along with mandatory logbook reporting. There are no individual or total landing quotas.

In Washington, shrimp pot fisheries are limited entry fisheries, but permits are transferable. There are annual harvest quotas and regional harvest shares established annually through co-management agreements with Tribes and recreational fishermen. Minimum landing size requirements, landing obligations, and logbook reporting are required. In Puget Sound, the fishery is managed through individual quotas for each license and with biweekly quotas for each area. Individuals cannot hold more than two licenses. Each license allows the designated vessel to fish with a maximum of 100 pots per area.

WA Puget Sound Dungeness Crab Pot/Trap Fishery

The Category III WA Puget Sound Dungeness crab pot/trap fishery effort takes place in inland waters typically less than 20 fathoms (120 ft or 36.6 m) throughout the Salish Sea. Commercial Dungeness crab fishing is allowed in the Strait of Juan de Fuca, San Juan Islands, and northern Puget Sound to Point Edwards. Fishing is not allowed in central and southern Puget Sound. The fishery generally runs from October 1st through April 15th each year, although the duration of each season can vary depending on a number of factors.

Fishermen may use crab pots or crab ring nets; however, most participants use pots. Crab pots can have a maximum volume of 13 cubic feet (368.1 liters). The pots consist of two or more escape rings or ports of at least 4¼ inches (10.8 cm) inside diameter, located in the upper half of the pot. The pots are set individually and not connected to one another. Each pot is required to have a pot tag attached and a buoy tag attached to the buoy. Each pot tag must be permanently marked with the license owner's name or license number and telephone number. The buoys may not be both red and white to ensure that commercial and recreational buoys can be distinguished (recreational crab buoys are white and red). Buoys used to mark pots have to be able to float at least 5 pounds (2.3 kg).

The Puget Sound Dungeness crab pot/trap fishery is a limited entry fishery. Fishermen may hold more than one license, and current license holders may transfer an existing license to a new party. Up to three licenses can be stacked on a single designated vessel. Each Puget Sound Dungeness crab license has a maximum limit of 100 pots or ring nets. Individual areas within the Salish Sea have a maximum number of pots allowed per license. Puget Sound crab harvest is co-managed by the State of Washington and the Treaty Tribes.

CA Nearshore Finfish Trap Fishery

The Category III CA nearshore finfish trap fishery targets nearshore species (cabezon, California sheephead, greenlings, and black, blue, brown, calico, China, copper, gopher, grass, kelp, olive, quillback, and treefish rockfishes) statewide using pot gear in shallow depths from 5-30 fathoms (30-180 ft or 9.1-54.9 m), usually within state waters. Because these species are caught for the live fish market, the gear is closely monitored with fishermen checking their gear every few hours to ensure quality product.

Pots used in the nearshore fishery vary and may be the same pots used in other fisheries (e.g., rock crab, CA spiny lobster, spot prawn). Finfish pots have a minimum mesh size of 2 x 2 inches (5.1 x 5.1 cm) and range in size from 2-3 feet (0.6-0.9 m) on a side and 1-2 feet (0.3-0.6 m) high. Fishermen targeting nearshore species are limited to 50 traps within state waters along the mainland shore. Finfish pots cannot be fished during the period from one hour after sunset to one hour before sunrise. Whether pots are used individually or in a string, it is mandatory that the surface end(s) be marked with a buoy. The buoy is marked with the commercial fishing license identification number followed by the letter “Z”.

California's nearshore fishery is managed under the state's Nearshore Fishery Management Plan (NFMP) as well as the Federal Pacific Coast Groundfish Management Plan and uses pots as well as hook and line gears in state waters. In addition to a state commercial fishing license, a regional Nearshore Fishery Permit or Deeper Nearshore Species Fishery Permit is required, as is a General Trap Permit and regional Nearshore Fishery trap endorsement (no trap endorsement is required for taking, blue, black, brown, calico, copper, olive, quillback and treefish rockfish). Most nearshore fishermen operate under the Open Access sector of the Federal groundfish fishery, although some have limited entry permits. Prior to 2021, the commercial fishery was closed in March/April, but became year round in 2021.

Number of Vessels/Persons

NMFS proposes to update the estimated number of vessels/persons in the Pacific Ocean (Table 1) as follows:

Category I

• HI deep-set longline fishery from 143 to 150 vessels/persons;

Category II

• HI shallow-set longline fishery from 11 to 14 vessels/persons;

• American Samoa longline fishery from 13 to 18 vessels/persons;

• HI shortline fishery from 5 to 11 vessels/persons;

Category III

• HI inshore gillnet fishery from 29 to 27 vessels/persons;

• HI lift net fishery from 15 to 14 vessels/persons;

• HI throw net, cast net fishery from 15 to 16 vessels/persons;

• HI seine net fishery from 17 to 16 vessels/persons;

• American Samoa tuna troll from 13 to 3 vessels/persons;

• HI troll fishery from 1,380 to 1,293 vessels/persons;

• HI rod and reel fishery from 237 to 246 vessels/persons;

• Commonwealth of the Northern Mariana Islands tuna troll fishery from 40 to 9 vessels/persons;

• Guam tuna troll fishery from 398 to 465 vessels/persons;

• HI kaka line fishery from 5 to 6 vessels/persons;

• HI vertical line fishery from none recorded to 5 vessels/persons;

• HI crab trap fishery from 4 to 3 vessels/persons;

• HI lobster trap fishery from none recorded to less than 3 vessels/persons;

• HI crab net fishery from none recorded to 3 vessels/persons;

• HI kona crab loop net fishery from 20 to 24 vessels/persons;

• American Samoa bottomfish handline fishery from 9 to 6 vessels/persons;

• Commonwealth of the Northern Mariana Islands bottomfish fishery from 11 to 12 vessels/persons;

• Guam bottomfish fishery from 67 to 84 vessels/persons;

• HI bottomfish handline fishery from 385 to 404 vessels/persons;

• HI inshore handline fishery from 206 to 192 vessels/persons;

• HI pelagic handline fishery from 300 to 311 vessels/persons;

• HI bullpen trap fishery from none recorded to less than 3 vessels/persons;

• HI black coral diving fishery from none recorded to less than 3 vessels/persons;

• HI handpick fishery from 25 to 28 vessels/persons;

• HI lobster diving fishery from 12 to 10 vessels/persons;

• HI spearfishing fishery from 82 to 79 vessels/persons;

• CA nearshore finfish trap from 93 to 42 vessels/persons; and

• HI aquarium collecting fishery from 34 to 39 vessels/persons.

List of Species and/or Stocks Incidentally Killed or Injured in the Pacific Ocean

NMFS corrects an administrative error and proposes to add the HI stock of fin whale and Guadalupe fur seal to the list of species/stocks incidentally killed or injured in the Category II HI shallow-set longline fishery. Both stocks were added to the list of species/stocks incidentally killed or injured in the Category II Western Pacific Pelagic longline fishery (HI shallow-set component) in the 2018 LOF. The Western Pacific Pelagic longline fishery (HI shallow-set component) is a component of the Category II HI shallow-set longline fishery. As noted in Table 3, the list of marine mammal species and/or stocks killed or injured in this fishery is identical to the list of marine mammal species and/or stocks killed or injured in U.S. waters component of the fishery, minus species and/or stocks that have geographic ranges exclusively in coastal waters. Therefore, NMFS proposes to add the two stocks to the U.S. waters component of the fishery, the Category II HI shallow-set longline fishery.

NMFS proposes to add the CA breeding stock of Northern elephant seal to the list of species/stocks incidentally killed or injured in the Category II CA Dungeness crab pot fishery. In 2020, a mummified northern elephant seal in California was reported entangled with lines that included a red plastic CA Dungeness crab buoy tag (Carretta et al., 2022).

NMFS proposes to add the Western U.S. stock of Steller sea lion to the list of species/stocks incidentally killed or injured in the Category II AK Gulf of Alaska sablefish longline fishery based on two observed mortalities in 2019 (Freed et al., 2021).

NMFS proposes to add the North Pacific stock of Pacific white-sided dolphin to the list of species/stocks incidentally killed or injured in the Category II AK Bering Sea Aleutian Islands pollock trawl fishery based on two observed mortalities in 2019 (Freed et al., 2021).

NMFS proposes to remove the Central North Pacific stock of humpback whale from the list of species/stocks incidentally killed or injured in the Category I HI deep-set longline fishery. From 2015-2019, there have been no reported or observed M/SI within the EEZ in the HI deep-set longline fishery (Carretta et al., 2022).

NMFS proposes to remove the unknown stock of short-finned pilot whale from the list of species/stocks incidentally killed or injured in the Category II American Samoa longline fishery. From 2015-2019, there have been no reported or observed M/SI in the American Samoa longline fishery (Carretta et al., 2022).

NMFS proposes to revise marine mammal stock names on the list of species/stocks incidentally killed or injured for consistency with the current stock names in the SARs as follows:

Category II AK Bristol Bay Salmon Drift Gillnet Fishery

• Spotted seal, AK to spotted seal, Bering;

Category II AK Bristol Bay Salmon Set Gillnet Fishery

• Harbor seal, Bering Sea to harbor seal, Bristol Bay; and

• Spotted seal, AK to spotted seal, Bering.

Following consultation with the U.S. Fish and Wildlife Service, NMFS also proposes to revise marine mammal stock names on the list of species/stocks incidentally killed or injured for consistency with the current stock names in the SARs as follows:

Category II CA Halibut/White Seabass and Other Species Set Gillnet (>3.5 in Mesh) Fishery

• Sea otter, CA to southern sea otter, CA;

Category II AK Kodiak Salmon Set Gillnet Fishery

• Sea otter, Southwest AK to northern sea otter, Southwest AK;

Category II AK Cook Inlet Salmon Set Gillnet Fishery

• Sea otter, South central AK to northern sea otter, South Central AK;

• Category II AK Prince William Sound salmon drift gillnet fishery Sea otter, South Central AK to northern sea otter, South Central AK;

Category II CA Spiny Lobster Fishery

• Southern sea otter to southern sea otter, CA, and

Category III AK Prince William Sound Salmon Set Gillnet Fishery

• Sea otter, South central AK to northern sea otter, South Central AK.

Commercial Fisheries in the Atlantic Ocean, Gulf of Mexico, and Caribbean

List of Species and/or Stocks Incidentally Killed or Injured in the Atlantic Ocean, Gulf of Mexico, and Caribbean

NMFS proposes to add the MS Sound, Lake Borgne, Bay Boudreau stock of bottlenose dolphin to the list of species/stocks incidentally killed or injured in the Category II Gulf of Mexico gillnet fishery. In 2015 and 2016, two dead stranded dolphins from the MS Sound, Lake Borgne, Bay Boudreau stock were recovered with gillnet gear markings (Hayes et al., 2022). Both animals were recovered on an Alabama coastline where only commercial gillnets have access to the surrounding Gulf waters, and recreational gillnets are prohibited.

NMFS proposes to add the Barataria Bay Estuarine System (BBES) stock of bottlenose dolphin to the list of species/stocks incidentally killed or injured in the Category II Southeastern U.S. Atlantic, Gulf of Mexico shrimp trawl fishery. In 2015, chaffing gear from a commercial shrimp trawl was recovered in a stranded dolphin carcass. The dolphin likely ingested the gear while removing gilled fish that were caught in the trawl net. This animal was ascribed to both the BBES and Western Coastal stocks (Hayes et al., 2022).

NMFS proposes to add both the Caloosahatchee River and Waccasassa Bay, Withlacoochee Bay, Crystal Bay stocks of bottlenose dolphin to the list of species/stocks incidentally killed or injured in the Category III Gulf of Mexico blue crab trap/pot fishery based on two serious injuries and one mortality. In 2019, a seriously injured dolphin (Callosahatchee River stock) was disentangled from commercial blue crab trap/pot gear and released alive. In addition, during 2017, one mortality (Callosahatchee River stock) occurred due to entanglement in commercial blue crab trap/pot gear (Hayes et al., 2022). Also in 2017, a dolphin (Waccasassa Bay, Withlacoochee Bay, Crystal Bay stock) was seriously injured due to entanglement in commercial blue crab trap/pot gear (Hayes et al., 2022).

NMFS proposes to add the Galveston Bay, East Bay, Trinity Bay stock of bottlenose dolphin to the list of species/stocks incidentally killed or injured in the Category III U.S. Atlantic, Gulf of Mexico trotline fishery. In 2018, a female dolphin observed with a young calf died due to an entanglement in trotline gear (Hayes et al., 2022).

NMFS corrects an administrative error and proposes to remove the Northern Gulf of Mexico coastal stock of bottlenose dolphin from the list of species/stocks incidentally killed or injured in the Category II Southeastern U.S. Atlantic, Gulf of Mexico stone crab fishery. Upon review of records, it appears this stock was erroneously added. There have been no documented mortalities or injuries of this stock in this fishery.

NMFS corrects an administrative error and proposes to remove the Eastern Gulf of Mexico coastal stock of bottlenose dolphin from the list of species/stocks incidentally killed or injured in the Category III FL West Coast sardine purse seine fishery. Upon review of records, it appears this stock was erroneously added. There have been no documented mortalities or injuries of this stock in this fishery. The list of species/stocks incidentally killed or injured in this fishery is updated to state none documented.

Commercial Fisheries on the High Seas

Number of Vessels/Persons

NMFS proposes to update the estimated number of HSFCA permits for high seas fisheries (Table 3) as follows:

Category I

• Atlantic highly migratory species longline fishery from 39 to 30 HSFCA permits;

• Western Pacific pelagic (HI deep-set component) longline fishery from 143 to 150 HSFCA permits;

Category II

• Pacific highly migratory species drift gillnet fishery from 5 to 3 HSFCA permits;

• Atlantic highly migratory species trawl fishery from 1 to 0 HSFCA permits;

• Western and Central Pacific Ocean tuna purse seine fishery from 20 to 34 HSFCA permits;

• Western Pacific pelagic purse seine fishery from 1 to 0 HSFCA permits;

• South Pacific albacore troll longline fishery from 6 to 8 HSFCA permits;

• Western Pacific pelagic (HI shallow-set component) longline fishery from 11 to 14 HSFCA permits;

• Atlantic highly migratory species handline/pole and line fishery from 1 to 0 HSFCA permits;

• Pacific highly migratory species handline/pole and line fishery from 44 to 45 HSFCA permits;

• South Pacific albacore troll handline/pole and line fishery from 9 to 7 HSFCA permits;

• Western Pacific pelagic handline/pole and line fishery from 5 to 1 HSFCA permits;

• South Pacific albacore troll fishery from 20 to 24 HSFCA permits;

• Western Pacific pelagic troll fishery from 6 to 7 HSFCA permits;

Category III

• Pacific highly migratory species longline fishery from 111 to 127 HSFCA permits;

• Pacific highly migratory species purse seine fishery from 5 to 2 HSFCA permits;

• Northwest Atlantic trawl fishery from 4 to 3 HSFCA permits; and

• Pacific highly migratory species troll fishery from 107 to 93 HSFCA permits.

List of Species and/or Stocks Incidentally Killed or Injured on the High Seas

NMFS corrects an administrative error and proposes to add the HI stock of rough-toothed dolphin to the list of species/stocks incidentally killed or injured in the Category I Western Pacific Pelagic longline fishery (HI deep-set component). The Western Pacific Pelagic longline fishery (HI deep-set component) is a component of the Category I HI deep-set longline fishery. As noted in Table 3, the list of marine mammal species and/or stocks killed or injured in this fishery is identical to the list of marine mammal species and/or stocks killed or injured in U.S. waters component of the fishery, minus species and/or stocks that have geographic ranges exclusively in coastal waters. The HI stock of rough-toothed dolphin is included on the list of species and/or stocks killed or injured Category I HI deep-set longline fishery and therefore NMFS proposes to add the stock to in the high seas component (Category I Western Pacific Pelagic (HI deep-set component) fishery).

NMFS proposes to remove the Central North Pacific stock of humpback whale from the list of species/stocks incidentally killed or injured in the Category I Western Pacific Pelagic longline fishery (HI deep-set component). As noted in Table 3, the list of marine mammal species and/or stocks killed or injured in this fishery is identical to the list of marine mammal species and/or stocks killed or injured in U.S. waters component of the fishery, minus species and/or stocks that have geographic ranges exclusively in coastal waters. From 2015-2019, there have been no reported or observed M/SI within the EEZ in the HI deep-set longline fishery (Carretta et al., 2022). Therefore, NMFS proposed to remove the stock from both the HI deep-set longline fishery and the Western Pacific Pelagic longline fishery (HI deep-set component).

NMFS proposes to remove three stocks from the list of species/stocks incidentally killed or injured in the Category II Western Pacific Pelagic longline fishery (HI shallow-set component). The three stocks are: (1) Ginkgo-toothed beaked whale, (2) CA breeding stock of Northern elephant seal and (3) CA/OR/WA stock of short-beaked common dolphin. From 2015-2019, there were no observed moralities or injuries of these stocks in the HI shallow-set component of the Western Pacific Pelagic longline fishery (Carretta et al., 2022).

NMFS proposes to remove the unknown stock of humpback whale from the list of species/stocks incidentally killed or injured in the Category II Western and Central Pacific Ocean tuna purse seine fishery. From 2015-2019, there were no observed moralities or injuries of these stocks in the Western and Central Pacific Ocean tuna purse seine fishery (Carretta et al., 2022).

NMFS proposes to revise the following marine mammal stock names to “unknown” stock on the list of species/stocks incidentally killed or injured in the Category II Western and Central Pacific Ocean tuna purse seine fishery based on more recent observer data:

• Bottlenose dolphin, HI pelagic

• Bryde's whale, HI

• False killer whale, HI pelagic

• Fin whale, HI

• Long-beaked common dolphin, CA

• Minke whale, HI

• Pygmy killer whale, HI

• Sei whale, HI, and

• Sperm whale, HI.

List of Fisheries

The following tables set forth the list of U.S. commercial fisheries according to their classification under section 118 of the MMPA. Table 1 lists commercial fisheries in the Pacific Ocean (including Alaska), Table 2 lists commercial fisheries in the Atlantic Ocean, Gulf of Mexico, and Caribbean, Table 3 lists commercial fisheries on the high seas, and Table 4 lists fisheries affected by TRPs or TRTs.

In Tables 1 and 2, the estimated number of vessels or persons participating in fisheries operating within U.S. waters is expressed in terms of the number of active participants in the fishery, when possible. If this information is not available, the estimated number of vessels or persons licensed for a particular fishery is provided. If no recent information is available on the number of participants, vessels, or persons licensed in a fishery, then the number from the most recent LOF is used for the estimated number of vessels or persons in the fishery. NMFS acknowledges that, in some cases, these estimates may be inflations of actual effort. For example, the State of Hawaii does not issue fishery-specific licenses, and the number of participants reported in the LOF represents the number of commercial marine license holders who reported using a particular fishing gear type/method at least once in a given year, without considering how many times the gear was used. For these fisheries, effort by a single participant is counted the same whether the fisherman used the gear only once or every day. In the Mid-Atlantic and New England fisheries, the numbers represent the potential effort for each fishery, given the multiple gear types for which several state permits may allow. Changes made to Mid-Atlantic and New England fishery participants will not affect observer coverage or bycatch estimates, as observer coverage and bycatch estimates are based on vessel trip reports and landings data. Tables 1 and 2 serve to provide a description of the fishery's potential effort (state and Federal). If NMFS is able to gather more accurate information on the gear types used by state permit holders in the future, the numbers will be updated to reflect this change. For additional information on fishing effort in fisheries found on Table 1 or 2, contact the relevant regional office (contact information included above in Where can I find more information about the LOF and the MMAP? section).

For high seas fisheries, Table 3 lists the number of valid HSFCA permits currently held. Although this likely overestimates the number of active participants in many of these fisheries, the number of valid HSFCA permits is the most reliable data on the potential effort in high seas fisheries at this time. As noted previously, the number of HSFCA permits listed in Table 3 for the high seas components of fisheries that also operate within U.S. waters does not necessarily represent additional effort that is not accounted for in Tables 1 and 2. Many vessels holding HSFCA permits also fish within U.S. waters and are included in the number of vessels and participants operating within those fisheries in Tables 1 and 2.

Tables 1, 2, and 3 also list the marine mammal species and/or stocks incidentally killed or injured (seriously or non-seriously) in each fishery based on SARs, injury determination reports, bycatch estimation reports, observer data, logbook data, stranding data, disentanglement network data, fishermen self-reports (i.e., MMAP reports), and anecdotal reports. The best available scientific information included in these reports is based on data through 2019. This list includes all species and/or stocks known to be killed or injured in a given fishery, but also includes species and/or stocks for which there are anecdotal records of a mortality or injury. Additionally, species identified by logbook entries, stranding data, or fishermen self-reports (i.e., MMAP reports) may not be verified. In Tables 1 and 2, NMFS has designated those species/stocks driving a fishery's classification (i.e., the fishery is classified based on mortalities and serious injuries of a marine mammal stock that are greater than or equal to 50 percent (Category I), or greater than 1 percent and less than 50 percent (Category II), of a stock's PBR) by a “1” after the stock's name.

In Tables 1 and 2, there are several fisheries classified as Category II that have no recent documented mortalities or serious injuries of marine mammals, or fisheries that did not result in a mortality or serious injury rate greater than 1 percent of a stock's PBR level based on known interactions. NMFS has classified these fisheries by analogy to other Category I or II fisheries that use similar fishing techniques or gear that are known to cause mortality or serious injury of marine mammals, as discussed in the final LOF for 1996 (60 FR 67063; December 28, 1995), and according to factors listed in the definition of a “Category II fishery” in 50 CFR 229.2 (i.e., fishing techniques, gear types, methods used to deter marine mammals, target species, seasons and areas fished, qualitative data from logbooks or fishermen reports, stranding data, and the species and distribution of marine mammals in the area). NMFS has designated those fisheries listed by analogy in Tables 1 and 2 by adding a “2” after the fishery's name.

There are several fisheries in Tables 1, 2, and 3 in which a portion of the fishing vessels cross the EEZ boundary and therefore operate both within U.S. waters and on the high seas. These fisheries, though listed separately on Table 1 or 2 and Table 3, are considered the same fisheries on either side of the EEZ boundary. NMFS has designated those fisheries in each table with an asterisk (*) after the fishery's name.

Table 1—List of Fisheries—Commercial Fisheries in the Pacific Ocean
Fishery description | Estimated number of vessels/ persons | Marine mammal species and/or stocks incidentally killed or injured
CATEGORY I
Longline/Set Line Fisheries:
HI deep-set longline * ^ | 150 | Bottlenose dolphin, HI Pelagic.
|  | False killer whale, HI Pelagic.¹
|  | False killer whale, MHI Insular.
|  | False killer whale, NWHI.
|  | Kogia spp. (Pygmy or dwarf sperm whale), HI.
|  | Risso's dolphin, HI.
|  | Rough-toothed dolphin, HI.
|  | Short-finned pilot whale, HI.
|  | Striped dolphin, HI.
CATEGORY II
Gillnet Fisheries:
CA thresher shark/swordfish drift gillnet (≥14 in mesh) * | 21 | Bottlenose dolphin, CA/OR/WA offshore. California sea lion, U.S.
|  | Dall's porpoise, CA/OR/WA.
|  | Gray whale, Eastern North Pacific.
|  | Humpback whale, CA/OR/WA.
|  | Long-beaked common dolphin, CA.
|  | Minke whale, CA/OR/WA.¹
|  | Northern elephant seal, CA breeding.
|  | Northern right-whale dolphin, CA/OR/WA.
|  | Pacific white-sided dolphin, CA/OR/WA.
|  | Risso's dolphin, CA/OR/WA.
|  | Short-beaked common dolphin, CA/OR/WA.
|  | Short-finned pilot whale, CA/OR/WA.¹
|  | Sperm Whale, CA/OR/WA.¹
CA halibut/white seabass and other species set gillnet (>3.5 in mesh) | 39 | California sea lion, U.S. Gray whale, Eastern North Pacific.
|  | Harbor seal, CA.
|  | Humpback whale, CA/OR/WA.¹
|  | Long-beaked common dolphin, CA.
|  | Northern elephant seal, CA breeding.
|  | Southern sea otter, CA.
|  | Short-beaked common dolphin, CA/OR/WA.
CA yellowtail, barracuda, and white seabass drift gillnet (mesh size ≥3.5 in and <14 in) ² | 20 | California sea lion, U.S. Long-beaked common dolphin, CA.
|  | Short-beaked common dolphin, CA/OR/WA.
AK Bristol Bay salmon drift gillnet ² | 1,862 | Beluga whale, Bristol Bay.
|  | Gray whale, Eastern North Pacific.
|  | Harbor seal, Bering Sea.
|  | Northern fur seal, Eastern Pacific.
|  | Pacific white-sided dolphin, North Pacific.
|  | Spotted seal, Bering.
|  | Steller sea lion, Western U.S.
AK Bristol Bay salmon set gillnet ² | 979 | Beluga whale, Bristol Bay.
|  | Gray whale, Eastern North Pacific.
|  | Harbor seal, Bristol Bay.
|  | Northern fur seal, Eastern Pacific.
|  | Spotted seal, Bering.
AK Kodiak salmon set gillnet | 188 | Harbor porpoise, GOA.¹
|  | Harbor seal, GOA.
|  | Humpback whale, Central North Pacific.
|  | Humpback whale, Western North Pacific.
|  | Northern sea otter, Southwest AK.
|  | Steller sea lion, Western U.S.
AK Cook Inlet salmon set gillnet | 736 | Beluga whale, Cook Inlet.
|  | Dall's porpoise, AK.
|  | Harbor porpoise, GOA.
|  | Harbor seal, Cook Inlet/Shelikof Strait.
|  | Humpback whale, Central North Pacific.¹
|  | Northern sea otter, South central AK.
|  | Steller sea lion, Western U.S.
AK Cook Inlet salmon drift gillnet | 569 | Beluga whale, Cook Inlet.
|  | Dall's porpoise, AK.
|  | Harbor porpoise, GOA.¹
|  | Harbor seal, GOA.
|  | Steller sea lion, Western U.S.
AK Peninsula/Aleutian Islands salmon drift gillnet ² | 162 | Dall's porpoise, AK.
|  | Harbor porpoise, GOA.
|  | Harbor seal, GOA.
|  | Northern fur seal, Eastern Pacific.
AK Peninsula/Aleutian Islands salmon set gillnet ² | 113 | Harbor porpoise, Bering Sea.
|  | Northern sea otter, Southwest AK.
|  | Steller sea lion, Western U.S.
AK Prince William Sound salmon drift gillnet | 537 | Dall's porpoise, AK.
|  | Gray whale, Eastern North Pacific.
|  | Harbor porpoise, GOA.¹
|  | Harbor seal, Prince William Sound.
|  | Humpback whale, Central North Pacific.
|  | Northern fur seal, Eastern Pacific.
|  | Pacific white-sided dolphin, North Pacific.
|  | Northern sea otter, South central AK.
|  | Steller sea lion, Western U.S.¹
AK Southeast salmon drift gillnet | 474 | Dall's porpoise, AK.
|  | Harbor porpoise, Southeast AK.
|  | Harbor seal, Southeast AK.
|  | Humpback whale, Central North Pacific.¹
|  | Pacific white-sided dolphin, North Pacific.
|  | Steller sea lion, Eastern U.S.
AK Yakutat salmon set gillnet ² | 168 | Gray whale, Eastern North Pacific.
|  | Harbor Porpoise, Southeastern AK.
|  | Harbor seal, Southeast AK.
|  | Humpback whale, Central North Pacific (Southeast AK).
WA Puget Sound Region salmon drift gillnet (includes all inland waters south of US-Canada border and eastward of the Bonilla-Tatoosh line-Treaty Indian fishing is excluded) | 136 | Dall's porpoise, CA/OR/WA. Harbor porpoise, inland WA.¹ Harbor seal, WA inland.
Trawl Fisheries:
AK Bering Sea, Aleutian Islands flatfish trawl | 32 | Bearded seal, Beringia.
|  | Gray whale, Eastern North Pacific.
|  | Harbor porpoise, Bering Sea.
|  | Harbor seal, Bristol Bay.
|  | Humpback whale, Western North Pacific.¹
|  | Killer whale, Eastern North Pacific Alaska resident.¹
|  | Killer whale, Eastern North Pacific GOA, AI, BS transient.¹
|  | Northern fur seal, Eastern Pacific.
|  | Ringed seal, Arctic.
|  | Ribbon seal.
|  | Spotted seal, Bering.
|  | Steller sea lion, Western U.S.¹
|  | Walrus, AK.
AK Bering Sea, Aleutian Islands pollock trawl | 102 | Harbor seal, Bristol Bay.
|  | Humpback whale, Central North Pacific.
|  | Humpback whale, Western North Pacific.
|  | Pacific white-sided dolphin, North Pacific.
|  | Ribbon seal.
|  | Ringed seal, Arctic.
|  | Steller sea lion, Western U.S.¹
Pot, Ring Net, and Trap Fisheries:
AK Bering Sea, Aleutian Islands Pacific cod pot | 59 | Harbor seal, Bristol Bay.
|  | Humpback whale, Central North Pacific.
|  | Humpback whale, Western North Pacific.
CA coonstripe shrimp pot | 9 | Gray whale, Eastern North Pacific.
|  | Harbor seal, CA.
|  | Humpback whale, CA/OR/WA.¹
CA spiny lobster | 189 | Bottlenose dolphin, CA/OR/WA offshore.
|  | California sea lion, U.S.
|  | Humpback whale, CA/OR/WA.¹
|  | Gray whale, Eastern North Pacific.
|  | Southern sea otter, CA.
CA spot prawn pot | 22 | Gray whale, Eastern North Pacific.
|  | Humpback whale, CA/OR/WA.¹
|  | Long-beaked common dolphin, CA.
CA Dungeness crab pot | 471 | Blue whale, Eastern North Pacific.¹
|  | Gray whale, Eastern North Pacific.
|  | Humpback whale, CA/OR/WA.¹
|  | Killer whale, Eastern North Pacific GOA, BSAI transient.
|  | Killer whale, West Coast transient.
|  | Northern elephant seal, CA breeding.
OR Dungeness crab pot | 323 | Gray whale, Eastern North Pacific. Humpback whale, CA/OR/WA.¹
WA/OR/CA sablefish pot | 144 | Humpback whale, CA/OR/WA.¹
WA coastal Dungeness crab pot | 204 | Gray whale, Eastern North Pacific. Humpback whale, CA/OR/WA.¹
Longline/Set Line Fisheries:
AK Gulf of Alaska sablefish longline | 295 | Northern elephant seal, California.
|  | Sperm whale, North Pacific.
|  | Steller sea lion, Eastern U.S.
|  | Steller sea lion, Western U.S.
HI shallow-set longline * ^ | 14 | Bottlenose dolphin, HI Pelagic.
|  | False killer whale, HI Pelagic.¹
|  | Fin whale, HI.
|  | Guadalupe fur seal.
|  | Humpback whale, Central North Pacific.
|  | Risso's dolphin, HI.
|  | Striped dolphin, HI.
American Samoa longline ² | 18 | False killer whale, American Samoa.
|  | Rough-toothed dolphin, American Samoa.
|  | Striped dolphin, unknown.
HI shortline ² | 11 | None documented.
Marine Aquaculture Fisheries:
HI offshore pen culture | 1 | Hawaiian monk seal.
CATEGORY III
Gillnet Fisheries:
AK Kuskokwim, Yukon, Norton Sound, Kotzebue salmon gillnet | 1,778 | Harbor porpoise, Bering Sea.
AK Prince William Sound salmon set gillnet | 29 | Harbor seal, GOA.
|  | Northern sea otter, South central AK.
|  | Steller sea lion, Western U.S.
AK roe herring and food/bait herring gillnet | 920 | None documented.
CA herring set gillnet | 11 | None documented.
HI inshore gillnet | 27 | Bottlenose dolphin, HI. Spinner dolphin, HI.
WA Grays Harbor salmon drift gillnet (excluding treaty Tribal fishing) | 19 | Harbor seal, OR/WA coast.
WA/OR Mainstem Columbia River eulachon gillnet | 10 | None documented.
WA/OR lower Columbia River (includes tributaries) drift gillnet | 244 | California sea lion, U.S. Harbor seal, OR/WA coast.
WA Willapa Bay drift gillnet | 57 | Harbor seal, OR/WA coast. Northern elephant seal, CA breeding.
Miscellaneous Net Fisheries:
AK Cook Inlet salmon purse seine | 83 | Humpback whale, Central North Pacific.
AK Kodiak salmon purse seine | 376 | Dall's porpoise, AK.
|  | Harbor seal, North Kodiak.
|  | Humpback whale, Central North Pacific.
|  | Humpback whale, Western North Pacific.
|  | Steller sea lion, Western U.S.
AK Southeast salmon purse seine | 315 | Humpback whale, Central North Pacific.
AK roe herring and food/bait herring beach seine | 10 | None documented.
AK roe herring and food/bait herring purse seine | 356 | None documented.
AK salmon beach seine | 31 | None documented.
AK salmon purse seine (Prince William Sound, Chignik, Alaska Peninsula) | 936 | Harbor seal, GOA.
|  | Harbor seal, Prince William Sound.
WA/OR sardine purse seine | 6 | None documented.
CA anchovy, mackerel, sardine purse seine | 53 | California sea lion, U.S.
|  | Harbor seal, CA.
CA squid purse seine | 68 | California sea lion, U.S.
|  | Long-beaked common dolphin, CA.
|  | Risso's dolphin, CA/OR/WA.
|  | Short-beaked common dolphin, CA/OR/WA.
CA tuna purse seine * | 14 | None documented.
WA/OR Lower Columbia River salmon seine | 1 | None documented.
WA/OR herring, anchovy, smelt, squid purse seine or lampara | 41 | None documented.
WA salmon seine | 81 | None documented.
WA salmon reef net | 11 | None documented.
HI lift net | 14 | None documented.
HI inshore purse seine | None recorded | None documented.
HI throw net, cast net | 16 | None documented.
HI seine net | 16 | None documented.
Dip Net Fisheries:
CA squid dip net | 19 | None documented.
Marine Aquaculture Fisheries:
CA marine shellfish aquaculture | unknown | None documented.
CA salmon enhancement rearing pen | >1 | None documented.
CA white seabass enhancement net pens | 13 | California sea lion, U.S.
WA salmon net pens | 14 | California sea lion, U.S. Harbor seal, WA inland waters.
WA/OR shellfish aquaculture | 23 | None documented.
Troll Fisheries:
WA/OR/CA albacore surface hook and line/troll | 556 | None documented.
CA halibut, white seabass, and yellowtail hook and line/handline | 388 | None documented.
CA/OR/WA non-albacore HMS hook and line | 124 | None documented.
AK Bering Sea, Aleutian Islands groundfish hand troll and dinglebar troll | unknown | None documented.
AK Gulf of Alaska groundfish hand troll and dinglebar troll | unknown | None documented.
AK salmon troll | 1,908 | Steller sea lion, Eastern U.S. Steller sea lion, Western U.S.
American Samoa tuna troll | 3 | None documented.
CA/OR/WA salmon troll | 1,030 | None documented.
HI troll | 1,293 | Pantropical spotted dolphin, HI.
HI rod and reel | 246 | None documented.
Commonwealth of the Northern Mariana Islands tuna troll | 9 | None documented.
Guam tuna troll | 465 | None documented.
Longline/Set Line Fisheries:
AK Bering Sea, Aleutian Islands Greenland turbot longline | 4 | Killer whale, GOA, AI, BS transient.
AK Bering Sea, Aleutian Islands Pacific cod longline | 45 | Northern fur seal, Eastern Pacific.
|  | Steller sea lion, Western U.S.
AK Bering Sea, Aleutian Islands sablefish longline | 22 | None documented.
AK Bering Sea, Aleutian Islands halibut longline | 127 | Northern fur seal, Eastern Pacific. Sperm whale, North Pacific.
AK Gulf of Alaska halibut longline | 855 | Harbor seal, Clarence Strait.
|  | Harbor seal, Cook Inlet.
|  | Steller sea lion, Eastern U.S.
AK Gulf of Alaska Pacific cod longline | 92 | Harbor seal, Cook Inlet/Shelikof Strait. Steller sea lion, Western U.S.
AK octopus/squid longline | 3 | None documented.
AK state-managed waters longline/setline (including sablefish, rockfish, lingcod, and miscellaneous finfish) | 464 | None documented.
WA/OR/CA groundfish, bottomfish longline/set line | 314 | Bottlenose dolphin, CA/OR/WA offshore. California sea lion, U.S.
|  | Northern elephant seal, California breeding.
|  | Sperm whale, CA/OR/WA.
|  | Steller sea lion, Eastern U.S.
WA/OR/CA Pacific halibut longline | 130 | None documented.
West Coast pelagic longline | 4 | None documented in the most recent 5 years of data.
HI kaka line | 6 | None documented.
HI vertical line | 5 | None documented.
Trawl Fisheries:
AK Bering Sea, Aleutian Islands Atka mackerel trawl | 13 | Harbor seal, Aleutian Islands. Northern elephant seal, California. Steller sea lion, Western U.S.
AK Bering Sea, Aleutian Islands Pacific cod trawl | 72 | Bearded seal, AK. Ribbon seal. Steller sea lion, Western U.S.
AK Bering Sea, Aleutian Islands rockfish trawl | 17 | Harbor seal, Aleutian Islands. Ribbon seal.
AK Gulf of Alaska flatfish trawl | 36 | Harbor seal, Cook Inlet/Shelikof Strait.
|  | Harbor seal, North Kodiak.
|  | Harbor seal, South Kodiak.
|  | Steller sea lion, Western U.S.
AK Gulf of Alaska Pacific cod trawl | 55 | Steller sea lion, Western U.S.
AK Gulf of Alaska pollock trawl | 67 | Steller sea lion, Western U.S.
AK Gulf of Alaska rockfish trawl | 43 | Steller sea lion, Western U.S.
AK Kodiak food/bait herring otter trawl | 4 | None documented.
AK shrimp otter trawl and beam trawl | 38 | None documented.
AK state-managed waters of Prince William Sound groundfish trawl | 2 | None documented.
CA halibut bottom trawl | 23 | California sea lion, U.S.
|  | Harbor porpoise, unknown.
|  | Harbor seal, unknown.
|  | Northern elephant seal, CA breeding.
|  | Steller sea lion, unknown.
CA sea cucumber trawl | 11 | None documented.
WA/OR/CA shrimp trawl | 130 | California sea lion, U.S.
WA/OR/CA groundfish trawl | 118 | California sea lion, U.S.
|  | Dall's porpoise, CA/OR/WA.
|  | Harbor seal, OR/WA coast.
|  | Northern elephant seal, CA breeding.
|  | Northern fur seal, Eastern Pacific.
|  | Northern right whale dolphin, CA/OR/WA.
|  | Pacific white-sided dolphin, CA/OR/WA.
|  | Steller sea lion, Eastern U.S.
Pot, Ring Net, and Trap Fisheries:
AK Bering Sea, Aleutian Islands sablefish pot | 6 | Sperm whale, North Pacific.
AK Bering Sea, Aleutian Islands crab pot | 540 | Bowhead whale, Western Arctic.
|  | Gray whale, Eastern North Pacific.
AK Gulf of Alaska crab pot | 271 | None documented.
AK Gulf of Alaska Pacific cod pot | 116 | None documented in most recent 5 years of data.
AK Gulf of Alaska sablefish pot | 248 | None documented.
AK Southeast Alaska crab pot | 375 | Humpback whale, Central North Pacific (Southeast AK).
AK Southeast Alaska shrimp pot | 99 | Humpback whale, Central North Pacific (Southeast AK).
AK shrimp pot, except Southeast | 141 | None documented.
AK octopus/squid pot | 15 | None documented.
CA rock crab pot | 113 | Gray whale, Eastern North Pacific.
|  | Harbor seal, CA.
CA Tanner crab pot fishery | 1 | None documented.
WA/OR/CA hagfish pot | 63 | None documented.
WA/OR shrimp pot/trap | 28 | None documented.
WA Puget Sound Dungeness crab pot/trap | 145 | None documented.
HI crab trap | 3 | Humpback whale, Central North Pacific.
HI fish trap | 4 | None documented.
HI lobster trap | Less than 3 | None documented in recent years.
HI shrimp trap | 3 | None documented.
HI crab net | 3 | None documented.
HI Kona crab loop net | 24 | None documented.
Hook and Line, Handline, and Jig Fisheries:
AK Bering Sea, Aleutian Islands groundfish jig | 2 | None documented.
AK Gulf of Alaska groundfish jig | 214 | None documented in most recent 5 years of data.
AK halibut jig | 71 | None documented.
American Samoa bottomfish | 6 | None documented.
Commonwealth of the Northern Mariana Islands bottomfish | 12 | None documented.
Guam bottomfish | 84 | None documented.
HI aku boat, pole, and line | None recorded | None documented.
HI bottomfish handline | 404 | None documented in recent years.
HI inshore handline | 192 | None documented.
HI pelagic handline | 311 | None documented.
WA/OR/CA groundfish/finfish hook and line | 689 | California sea lion, U.S.
Western Pacific squid jig | 0 | None documented.
Harpoon Fisheries:
CA swordfish harpoon | 21 | None documented.
Pound Net/Weir Fisheries:
AK herring spawn on kelp pound net | 291 | None documented.
AK Southeast herring roe/food/bait pound net | 2 | None documented.
HI bullpen trap | Less than 3 | None documented.
Bait Pens:
WA/OR/CA bait pens | 13 | California sea lion, U.S.
Dredge Fisheries:
AK scallop dredge | 108 (5 AK) | None documented.
Dive, Hand/Mechanical Collection Fisheries:
AK clam | 130 | None documented.
AK Dungeness crab | 2 | None documented.
AK herring spawn on kelp | 266 | None documented.
AK miscellaneous invertebrates handpick | 214 | None documented.
CA/OR/WA dive collection | 186 | None documented.
CA/WA kelp, seaweed and algae | 4 | None documented.
HI black coral diving | Less than 3 | None documented.
HI fish pond | None recorded | None documented.
HI handpick | 28 | None documented.
HI lobster diving | 10 | None documented.
HI spearfishing | 79 | None documented.
WA/OR/CA hand/mechanical collection | 320 | None documented.
Commercial Passenger Fishing Vessel (Charter Boat) Fisheries:
AK/WA/OR/CA commercial passenger fishing vessel | >7,000 (1,006 AK) | Humpback whale, Central North Pacific. Humpback whale, Western North Pacific.
|  | Killer whale, unknown.
|  | Steller sea lion, Eastern U.S.
|  | Steller sea lion, Western U.S.
Live Finfish/Shellfish Fisheries:
CA nearshore finfish trap | 42 | None documented.
HI aquarium collecting | 39 | None documented.
List of Abbreviations and Symbols Used in Table 1:
AI—Aleutian Islands; AK—Alaska; BS—Bering Sea; CA—California; ENP—Eastern North Pacific; GOA—Gulf of Alaska; HI—Hawaii; MHI—Main Hawaiian Islands; OR—Oregon; WA—Washington;
¹ Fishery classified based on mortalities and serious injuries of this stock, which are greater than or equal to 50 percent (Category I) or greater than 1 percent and less than 50 percent (Category II) of the stock's PBR;
² Fishery classified by analogy;
* Fishery has an associated high seas component listed in Table 3; and
^ The list of marine mammal species and/or stocks killed or injured in this fishery is identical to the list of species and/or stocks killed or injured in high seas component of the fishery, minus species and/or stocks that have geographic ranges exclusively on the high seas. The species and/or stocks are found, and the fishery remains the same, on both sides of the EEZ boundary. Therefore, the EEZ components of these fisheries pose the same risk to marine mammals as the components operating on the high seas.

Table 2—List of Fisheries—Commercial Fisheries in the Atlantic Ocean, Gulf of Mexico, and Caribbean
Fishery description | Estimated number of vessels/ persons | Marine mammal species and/or stocks incidentally killed or injured
CATEGORY I
Gillnet Fisheries:
Mid-Atlantic gillnet | 4,020 | Bottlenose dolphin, Northern Migratory coastal.
|  | Bottlenose dolphin, Southern Migratory coastal.¹
|  | Bottlenose dolphin, Northern NC estuarine system.¹
|  | Bottlenose dolphin, Southern NC estuarine system.¹
|  | Bottlenose dolphin, WNA offshore.
|  | Common dolphin, WNA.
|  | Gray seal, WNA.
|  | Harbor porpoise, GME/BF.
|  | Harbor seal, WNA.
|  | Hooded seal, WNA.
|  | Humpback whale, Gulf of Maine.
|  | Minke whale, Canadian east coast.
Northeast sink gillnet | 4,072 | Bottlenose dolphin, Northern Migratory coastal.
|  | Bottlenose dolphin, WNA offshore.
|  | Common dolphin, WNA.
|  | Fin whale, WNA.
|  | Gray seal, WNA.¹
|  | Harbor porpoise, GME/BF.
|  | Harbor seal, WNA.
|  | Harp seal, WNA.
|  | Humpback whale, Gulf of Maine.
|  | Minke whale, Canadian east coast.
|  | North Atlantic right whale, WNA.
|  | Risso's dolphin, WNA.
|  | White-sided dolphin, WNA.
Trap/Pot Fisheries:
Northeast/Mid-Atlantic American lobster trap/pot | 8,485 | Humpback whale, Gulf of Maine.
|  | Minke whale, Canadian east coast.
|  | North Atlantic right whale, WNA.¹
Longline Fisheries:
Atlantic Ocean, Caribbean, Gulf of Mexico large pelagics longline * | 201 | Atlantic spotted dolphin, Northern GMX. Bottlenose dolphin, Northern GMX oceanic.
|  | Bottlenose dolphin, WNA offshore.
|  | Common dolphin, WNA.
|  | Cuvier's beaked whale, WNA.
|  | False killer whale, WNA.
|  | Harbor porpoise, GME, BF.
|  | Kogia spp. (Pygmy or dwarf sperm whale), WNA.
|  | Long-finned pilot whale, WNA.
|  | Mesoplodon beaked whale, WNA.
|  | Minke whale, Canadian East coast.
|  | Pantropical spotted dolphin, Northern GMX.
|  | Pygmy sperm whale, GMX.
|  | Risso's dolphin, Northern GMX.
|  | Risso's dolphin, WNA.
|  | Rough-toothed dolphin, Northern GMX.
|  | Short-finned pilot whale, Northern GMX.
|  | Short-finned pilot whale, WNA.¹
|  | Sperm whale, Northern GMX.
CATEGORY II
Gillnet Fisheries:
Chesapeake Bay inshore gillnet ² | 265 | Bottlenose dolphin, unknown (Northern migratory coastal or Southern migratory coastal).
Gulf of Mexico gillnet ² | 248 | Bottlenose dolphin, Eastern GMX coastal.
|  | Bottlenose dolphin, GMX bay, sound, and estuarine.
|  | Bottlenose dolphin, Mobile Bay, Bonsecour Bay.
|  | Bottlenose dolphin, MS Sound, Lake Borgne, Bay Boudreau.
|  | Bottlenose dolphin, Northern GMX coastal.
|  | Bottlenose dolphin, Western GMX coastal.
NC inshore gillnet | 2,676 | Bottlenose dolphin, Northern NC estuarine system.¹ Bottlenose dolphin, Southern NC estuarine system.¹
Northeast anchored float gillnet ² | 852 | Harbor seal, WNA.
|  | Humpback whale, Gulf of Maine.
|  | White-sided dolphin, WNA.
Northeast drift gillnet ² | 1,036 | None documented.
Southeast Atlantic gillnet ² | 273 | Bottlenose dolphin, Central FL coastal.
|  | Bottlenose dolphin, Northern FL coastal.
|  | Bottlenose dolphin, SC/GA coastal.
|  | Bottlenose dolphin, Southern migratory coastal.
Southeastern U.S. Atlantic shark gillnet | 21 | Bottlenose dolphin, unknown (Central FL, Northern FL, SC/GA coastal, or Southern migratory coastal). North Atlantic right whale, WNA.
Trawl Fisheries:
Mid-Atlantic mid-water trawl (including pair trawl) | 320 | Bottlenose dolphin, WNA offshore. Harbor seal, WNA.
Mid-Atlantic bottom trawl | 633 | Bottlenose dolphin, WNA offshore.¹
|  | Common dolphin, WNA.¹
|  | Gray seal, WNA.¹
|  | Harbor seal, WNA.
|  | Risso's dolphin, WNA.¹
|  | White-sided dolphin, WNA.
Northeast mid-water trawl (including pair trawl) | 542 | Common dolphin, WNA.
|  | Gray seal, WNA.
|  | Harbor seal, WNA.
|  | Long-finned pilot whale, WNA.¹
Northeast bottom trawl | 968 | Bottlenose dolphin, WNA offshore.¹
|  | Common dolphin, WNA.
|  | Gray seal, WNA.¹
|  | Harbor porpoise, GME/BF.
|  | Harbor seal, WNA.
|  | Harp seal, WNA.
|  | Long-finned pilot whale, WNA.¹
|  | Risso's dolphin, WNA.¹
|  | White-sided dolphin, WNA.¹
Southeastern U.S. Atlantic, Gulf of Mexico shrimp trawl | 10,824 | Atlantic spotted dolphin, Northern Gulf of Mexico.
|  | Bottlenose dolphin, Barataria Bay Estuarine System.
|  | Bottlenose dolphin, Charleston estuarine system.
|  | Bottlenose dolphin, Eastern GMX coastal.¹
|  | Bottlenose dolphin, GMX bay, sound, estuarine.¹
|  | Bottlenose dolphin, GMX continental shelf.
|  | Bottlenose dolphin, Mississippi River Delta.
|  | Bottlenose dolphin, Mobile Bay, Bonsecour Bay.
|  | Bottlenose dolphin, Northern GMX coastal.¹
|  | Bottlenose dolphin, Pensacola Bay, East Bay.
|  | Bottlenose dolphin, Perdido Bay.
|  | Bottlenose dolphin, SC/GA coastal.¹
|  | Bottlenose dolphin, Southern migratory coastal. Bottlenose dolphin, Western GMX coastal.¹
Trap/Pot Fisheries:
MA mixed species trap/pot | 1,240 | None documented.
Southeastern U.S. Atlantic, Gulf of Mexico stone crab trap/pot ² | 1,101 | Bottlenose dolphin, Biscayne Bay estuarine. Bottlenose dolphin, Central FL coastal.
|  | Bottlenose dolphin, Eastern GMX coastal.
|  | Bottlenose dolphin, FL Bay.
|  | Bottlenose dolphin, GMX bay, sound, estuarine (FL west coast portion).
|  | Bottlenose dolphin, Indian River Lagoon estuarine system.
|  | Bottlenose dolphin, Jacksonville estuarine system.
|  | Bottlenose dolphin, Sarasota Bay, Little Sarasota Bay.
Atlantic mixed species trap/pot ² | 3,493 | Fin whale, WNA. Humpback whale, Gulf of Maine.
Atlantic blue crab trap/pot | 6,679 | Bottlenose dolphin, Central FL coastal.
|  | Bottlenose dolphin, Central GA estuarine system.¹
|  | Bottlenose dolphin, Charleston estuarine system.¹
|  | Bottlenose dolphin, Indian River Lagoon estuarine system.
|  | Bottlenose dolphin, Jacksonville estuarine system.
|  | Bottlenose dolphin, Northern FL coastal.¹
|  | Bottlenose dolphin, Northern GA/Southern SC estuarine system.
|  | Bottlenose dolphin, Northern Migratory coastal.
|  | Bottlenose dolphin, Northern NC estuarine system.¹
|  | Bottlenose dolphin, Northern SC estuarine system.
|  | Bottlenose dolphin, SC/GA coastal.
|  | Bottlenose dolphin, Southern GA estuarine system.
|  | Bottlenose dolphin, Southern Migratory coastal.¹
|  | Bottlenose dolphin, Southern NC estuarine system.
|  | West Indian manatee, FL.
Purse Seine Fisheries:
Gulf of Mexico menhaden purse seine | 40-42 | Bottlenose dolphin, GMX bay, sound, estuarine.
|  | Bottlenose dolphin, Mississippi River Delta.
|  | Bottlenose dolphin, Mississippi Sound, Lake Borgne, Bay Boudreau.
|  | Bottlenose dolphin, Northern GMX coastal.¹
|  | Bottlenose dolphin, Western GMX coastal.¹
Mid-Atlantic menhaden purse seine ² | 17 | Bottlenose dolphin, Northern Migratory coastal. Bottlenose dolphin, Southern Migratory coastal.
Haul/Beach Seine Fisheries:
Mid-Atlantic haul/beach seine | 359 | Bottlenose dolphin, Northern Migratory coastal.¹
|  | Bottlenose dolphin, Northern NC estuarine system.¹
|  | Bottlenose dolphin, Southern Migratory coastal.¹
NC long haul seine | 22 | Bottlenose dolphin, Northern NC estuarine system.¹ Bottlenose dolphin, Southern NC estuarine system.
Stop Net Fisheries:
NC roe mullet stop net | 1 | Bottlenose dolphin, Northern NC estuarine system.
|  | Bottlenose dolphin, unknown (Southern migratory coastal or Southern NC estuarine system).
Pound Net Fisheries:
VA pound net | 20 | Bottlenose dolphin, Northern migratory coastal.
|  | Bottlenose dolphin, Northern NC estuarine system.
|  | Bottlenose dolphin, Southern Migratory coastal.¹
CATEGORY III
Gillnet Fisheries:
Caribbean gillnet | 127 | None documented in the most recent 5 years of data.
DE River inshore gillnet | unknown | None documented in the most recent 5 years of data.
Long Island Sound inshore gillnet | unknown | None documented in the most recent 5 years of data.
RI, southern MA (to Monomoy Island), and NY Bight (Raritan and Lower NY Bays) inshore gillnet | unknown | None documented in the most recent 5 years of data.
Southeast Atlantic inshore gillnet | unknown | Bottlenose dolphin, Northern SC estuarine system.
Trawl Fisheries:
Atlantic shellfish bottom trawl | >58 | None documented.
Gulf of Mexico butterfish trawl | 2 | Bottlenose dolphin, Northern GMX oceanic. Bottlenose dolphin, Northern GMX continental shelf.
Gulf of Mexico mixed species trawl | 20 | None documented.
GA cannonball jellyfish trawl | 1 | Bottlenose dolphin, SC/GA coastal.
Marine Aquaculture Fisheries:
Finfish aquaculture | 48 | Harbor seal, WNA.
Shellfish aquaculture | unknown | None documented.
Purse Seine Fisheries:
Gulf of Maine Atlantic herring purse seine | >7 | Harbor seal, WNA.
Gulf of Maine menhaden purse seine | >2 | None documented.
FL West Coast sardine purse seine | 10 | None documented.
U.S. Atlantic tuna purse seine * | 5 | None documented in most recent 5 years of data.
Longline/Hook and Line Fisheries:
Northeast/Mid-Atlantic bottom longline/hook-and-line | >1,207 | None documented.
Gulf of Maine, U.S. Mid-Atlantic tuna, shark, swordfish hook-and-line/harpoon | 2,846 | Humpback whale, Gulf of Maine.
Southeastern U.S. Atlantic, Gulf of Mexico, and Caribbean snapper-grouper and other reef fish bottom longline/hook-and-line | >5,000 | Bottlenose dolphin, GMX continental shelf.
Southeastern U.S. Atlantic, Gulf of Mexico shark bottom longline/hook-and-line | 39 | Bottlenose dolphin, Eastern GMX coastal. Bottlenose dolphin, Northern GMX continental shelf.
Southeastern U.S. Atlantic, Gulf of Mexico, and Caribbean pelagic hook-and-line/harpoon | 680 | None documented.
U.S. Atlantic, Gulf of Mexico trotline | unknown | Bottlenose dolphin, Galveston Bay, East Bay, Trinity Bay.
Trap/Pot Fisheries:
Caribbean mixed species trap/pot | 154 | Bottlenose dolphin, Puerto Rico and United States Virgin Islands.
Caribbean spiny lobster trap/pot | 40 | None documented.
FL spiny lobster trap/pot | 1,268 | Bottlenose dolphin, Biscayne Bay estuarine.
|  | Bottlenose dolphin, Central FL coastal.
|  | Bottlenose dolphin, Eastern GMX coastal.
|  | Bottlenose dolphin, FL Bay estuarine.
|  | Bottlenose dolphin, FL Keys.
Gulf of Mexico blue crab trap/pot | 4,113 | Bottlenose dolphin, Barataria Bay.
|  | Bottlenose dolphin, Caloosahatchee River.
|  | Bottlenose dolphin, Eastern GMX coastal.
|  | Bottlenose dolphin, GMX bay, sound, estuarine.
|  | Bottlenose dolphin, Mississippi Sound, Lake Borgne, Bay Boudreau.
|  | Bottlenose dolphin, Mobile Bay, Bonsecour Bay.
|  | Bottlenose dolphin, Northern GMX coastal.
|  | Bottlenose dolphin, Waccasassa Bay, Withlacoochee Bay, Crystal Bay.
|  | Bottlenose dolphin, Western GMX coastal.
|  | West Indian manatee, FL.
Gulf of Mexico mixed species trap/pot | unknown | None documented.
Southeastern U.S. Atlantic, Gulf of Mexico golden crab trap/pot | 10 | None documented.
U.S. Mid-Atlantic eel trap/pot | unknown | None documented.
Stop Seine/Weir/Pound Net/Floating Trap/Fyke Net Fisheries:
Gulf of Maine herring and Atlantic mackerel stop seine/weir | >1 | Harbor porpoise, GME/BF. Harbor seal, WNA.
|  | Minke whale, Canadian east coast.
|  | Atlantic white-sided dolphin, WNA.
U.S. Mid-Atlantic crab stop seine/weir | 2,600 | None documented.
U.S. Mid-Atlantic mixed species stop seine/weir/pound net (except the NC roe mullet stop net) | unknown | Bottlenose dolphin, Northern NC estuarine system.
RI floating trap | 9 | None documented.
Northeast and Mid-Atlantic fyke net | unknown | None documented.
Dredge Fisheries:
Gulf of Maine sea urchin dredge | unknown | None documented.
Gulf of Maine mussel dredge | unknown | None documented.
Gulf of Maine, U.S. Mid-Atlantic sea scallop dredge | >403 | None documented.
Mid-Atlantic blue crab dredge | unknown | None documented.
Mid-Atlantic soft-shell clam dredge | unknown | None documented.
Mid-Atlantic whelk dredge | unknown | None documented.
U.S. Mid-Atlantic/Gulf of Mexico oyster dredge | 7,000 | None documented.
New England and Mid-Atlantic offshore surf clam/quahog dredge | unknown | None documented.
Haul/Beach Seine Fisheries:
Caribbean haul/beach seine | 38 | West Indian manatee, Puerto Rico.
Gulf of Mexico haul/beach seine | unknown | None documented.
Southeastern U.S. Atlantic haul/beach seine | 25 | None documented.
Dive, Hand/Mechanical Collection Fisheries:
Atlantic Ocean, Gulf of Mexico, Caribbean shellfish dive, hand/mechanical collection | 20,000 | None documented.
Gulf of Maine urchin dive, hand/mechanical collection | unknown | None documented.
Gulf of Mexico, Southeast Atlantic, Mid-Atlantic, and Caribbean cast net | unknown | None documented.
Commercial Passenger Fishing Vessel (Charter Boat) Fisheries:
Atlantic Ocean, Gulf of Mexico, Caribbean commercial passenger fishing vessel | 4,000 | Bottlenose dolphin, Barataria Bay estuarine system. Bottlenose dolphin, Biscayne Bay estuarine.
|  | Bottlenose dolphin, Central FL coastal.
|  | Bottlenose dolphin, Choctawhatchee Bay.
|  | Bottlenose dolphin, Eastern GMX coastal.
|  | Bottlenose dolphin, FL Bay.
|  | Bottlenose dolphin, GMX bay, sound, estuarine.
|  | Bottlenose dolphin, Indian River Lagoon estuarine system.
|  | Bottlenose dolphin, Jacksonville estuarine system.
|  | Bottlenose dolphin, Mississippi Sound, Lake Borgne, Bay Boudreau.
|  | Bottlenose dolphin, Northern FL coastal.
|  | Bottlenose dolphin, Northern GA/Southern SC estuarine.
|  | Bottlenose dolphin, Northern GMX coastal.
|  | Bottlenose dolphin, Northern migratory coastal.
|  | Bottlenose dolphin, Northern NC estuarine.
|  | Bottlenose dolphin, Southern migratory coastal.
|  | Bottlenose dolphin, Southern NC estuarine system.
|  | Bottlenose dolphin, SC/GA coastal.
|  | Bottlenose dolphin, Western GMX coastal.
|  | Short-finned pilot whale, WNA.
List of Abbreviations and Symbols Used in Table 2:
DE—Delaware; FL—Florida; GA—Georgia; GME/BF—Gulf of Maine/Bay of Fundy; GMX—Gulf of Mexico; MA—Massachusetts; NC—North Carolina; NY—New York; RI—Rhode Island; SC—South Carolina; VA—Virginia; WNA—Western North Atlantic;
¹ Fishery classified based on mortalities and serious injuries of this stock, which are greater than or equal to 50 percent (Category I) or greater than 1 percent and less than 50 percent (Category II) of the stock's PBR;
² Fishery classified by analogy; and
* Fishery has an associated high seas component listed in Table 3.

Table 3—List of Fisheries—Commercial Fisheries on the High Seas
Fishery description | Number of HSFCA permits | Marine mammal species and/or stocks incidentally killed or injured
CATEGORY I
Longline Fisheries:
Atlantic Highly Migratory Species * | 30 | Atlantic spotted dolphin, WNA.
|  | Bottlenose dolphin, Northern GMX oceanic.
|  | Bottlenose dolphin, WNA offshore.
|  | Common dolphin, WNA.
|  | Cuvier's beaked whale, WNA.
|  | False killer whale, WNA.
|  | Killer whale, GMX oceanic.
|  | Kogia spp. whale (Pygmy or dwarf sperm whale), WNA.
|  | Long-finned pilot whale, WNA.
|  | Mesoplodon beaked whale, WNA.
|  | Minke whale, Canadian East coast.
|  | Pantropical spotted dolphin, WNA.
|  | Risso's dolphin, GMX.
|  | Risso's dolphin, WNA.
|  | Short-finned pilot whale, WNA.
Western Pacific Pelagic (HI Deep-set component) * ^ | 150 | Bottlenose dolphin, HI Pelagic. False killer whale, HI Pelagic. Kogia spp. (Pygmy or dwarf sperm whale), HI. Risso's dolphin, HI. Rough-toothed dolphin, HI. Short-finned pilot whale, HI. Striped dolphin, HI.
CATEGORY II
Drift Gillnet Fisheries:
Pacific Highly Migratory Species * ^ | 3 | Long-beaked common dolphin, CA.
|  | Humpback whale, CA/OR/WA.
|  | Northern right-whale dolphin, CA/OR/WA.
|  | Pacific white-sided dolphin, CA/OR/WA.
|  | Risso's dolphin, CA/OR/WA.
|  | Short-beaked common dolphin, CA/OR/WA.
Trawl Fisheries:
Atlantic Highly Migratory Species ** | 0 | No information.
CCAMLR | 0 | Antarctic fur seal.
Purse Seine Fisheries:
Western and Central Pacific Ocean Tuna Purse Seine | 34 | Bottlenose dolphin, unknown. Blue whale, unknown.
|  | Bryde's whale, unknown.
|  | False killer whale, unknown.
|  | Fin whale, unknown.
|  | Indo-Pacific dolphin.
|  | Long-beaked common dolphin, unknown.
|  | Melon-headed whale, unknown.
|  | Minke whale, unknown.
|  | Pantropical spotted dolphin, unknown.
|  | Pygmy killer whale, unknown.
|  | Risso's dolphin, unknown.
|  | Rough-toothed dolphin, unknown.
|  | Sei whale, unknown.
|  | Short-finned pilot whale, unknown.
|  | Sperm whale, unknown.
|  | Spinner dolphin, unknown.
Western Pacific Pelagic | 0 | No information.
Longline Fisheries:
CCAMLR | 0 | None documented.
South Pacific Albacore Troll | 8 | No information.
Western Pacific Pelagic (HI Shallow-set component) * ^ | 14 | Bottlenose dolphin, HI Pelagic. False killer whale, HI Pelagic.
|  | Fin whale, HI.
|  | Guadalupe fur seal.
|  | Humpback whale, Central North Pacific.
|  | Risso's dolphin, HI.
|  | Striped dolphin, HI.
Handline/Pole and Line Fisheries:
Atlantic Highly Migratory Species | 0 | No information.
Pacific Highly Migratory Species | 45 | No information.
South Pacific Albacore Troll | 7 | No information.
Western Pacific Pelagic | 1 | No information.
Troll Fisheries:
Atlantic Highly Migratory Species | 0 | No information.
South Pacific Albacore Troll | 24 | No information.
South Pacific Tuna Fisheries ** | 0 | No information.
Western Pacific Pelagic | 7 | No information.
CATEGORY III
Longline Fisheries:
Northwest Atlantic Bottom Longline | 2 | None documented.
Pacific Highly Migratory Species | 127 | None documented in the most recent 5 years of data.
Purse Seine Fisheries:
Pacific Highly Migratory Species * ^ | 2 | None documented.
Trawl Fisheries:
Northwest Atlantic | 3 | None documented.
Troll Fisheries:
Pacific Highly Migratory Species * | 93 | None documented.
List of Terms, Abbreviations, and Symbols Used in Table 3:
CA—California; GMX—Gulf of Mexico; HI—Hawaii; OR—Oregon; WA—Washington; WNA—Western North Atlantic;
* Fishery is an extension/component of an existing fishery operating within U.S. waters listed in Table 1 or 2. The number of permits listed in Table 3 represents only the number of permits for the high seas component of the fishery;
** These gear types are not authorized under the Pacific HMS FMP (2004), the Atlantic HMS FMP (2006), or without a South Pacific Tuna Treaty license (in the case of the South Pacific Tuna fisheries). Because HSFCA permits are valid for 5 years, permits obtained in past years exist in the HSFCA permit database for gear types that are now unauthorized. Therefore, while HSFCA permits exist for these gear types, it does not represent effort. In order to land fish species, fishers must be using an authorized gear type. Once these permits for unauthorized gear types expire, the permit-holder will be required to obtain a permit for an authorized gear type; and
^ The list of marine mammal species and/or stocks killed or injured in this fishery is identical to the list of marine mammal species and/or stocks killed or injured in U.S. waters component of the fishery, minus species and/or stocks that have geographic ranges exclusively in coastal waters, because the marine mammal species and/or stocks are also found on the high seas and the fishery remains the same on both sides of the EEZ boundary. Therefore, the high seas components of these fisheries pose the same risk to marine mammals as the components of these fisheries operating in U.S. waters.

Table 4—Fisheries Affected by Take Reduction Teams and Plans
Take reduction plans | Affected fisheries
Atlantic Large Whale Take Reduction Plan (ALWTRP)—50 CFR 229.32 | Category I:
| Mid-Atlantic gillnet.
| Northeast/Mid-Atlantic American lobster trap/pot.
| Northeast sink gillnet.
| Category II:
| Atlantic blue crab trap/pot.
| Atlantic mixed species trap/pot.
| MA mixed species trap/pot.
| Northeast anchored float gillnet.
| Northeast drift gillnet.
| Southeast Atlantic gillnet.
| Southeastern U.S. Atlantic shark gillnet.*
| Southeastern, U.S. Atlantic, Gulf of Mexico stone crab trap/pot.^
Bottlenose Dolphin Take Reduction Plan (BDTRP)—50 CFR 229.35 | Category I: Mid-Atlantic gillnet.
| Category II:
| Atlantic blue crab trap/pot.
| Chesapeake Bay inshore gillnet fishery.
| Mid-Atlantic haul/beach seine.
| Mid-Atlantic menhaden purse seine.
| NC inshore gillnet.
| NC long haul seine.
| NC roe mullet stop net.
| Southeast Atlantic gillnet.
| Southeastern U.S. Atlantic shark gillnet.
| Southeastern U.S. Atlantic, Gulf of Mexico shrimp trawl.^
| Southeastern, U.S. Atlantic, Gulf of Mexico stone crab trap/pot.^
| VA pound net.
False Killer Whale Take Reduction Plan (FKWTRP)—50 CFR 229.37 | Category I: HI deep-set longline.
| Category II: HI shallow-set longline.
Harbor Porpoise Take Reduction Plan (HPTRP)—50 CFR 229.33 (New England) and 229.34 (Mid-Atlantic) | Category I: Mid-Atlantic gillnet. Northeast sink gillnet.
Pelagic Longline Take Reduction Plan (PLTRP)—50 CFR 229.36 | Category I: Atlantic Ocean, Caribbean, Gulf of Mexico large pelagics longline.
Pacific Offshore Cetacean Take Reduction Plan (POCTRP)—50 CFR 229.31 | Category II: CA thresher shark/swordfish drift gillnet (≥14 in mesh).
Atlantic Trawl Gear Take Reduction Team (ATGTRT) | Category II: Mid-Atlantic bottom trawl.
| Mid-Atlantic mid-water trawl (including pair trawl).
| Northeast bottom trawl.
| Northeast mid-water trawl (including pair trawl).
List of Symbols Used in Table 4:
* Only applicable to the portion of the fishery operating in U.S. waters; and
^ Only applicable to the portion of the fishery operating in the Atlantic Ocean.

Classification

The Chief Counsel for Regulation of the Department of Commerce has certified to the Chief Counsel for Advocacy of the Small Business Administration (SBA) that this proposed rule would not have a significant economic impact on a substantial number of small entities. Any entity with combined annual fishery landing receipts less than $11 million is considered a small entity for purposes of the Regulatory Flexibility Act. Under the size standard, all entities subject to this action were considered small entities; thus, they all would continue to be considered small under the new standards.

Under existing regulations, all individuals participating in Category I or II fisheries must register under the MMPA and obtain an authorization certificate. The authorization certificate authorizes the taking of marine mammals incidental to commercial fishing operations under the MMPA. Additionally, individuals may be subject to a TRP and requested to carry an observer. NMFS has estimated that up to approximately 56,603 fishing vessels, most with annual revenues below the SBA's small entity thresholds, may operate in Category I or II fisheries. As fishing vessels operating in Category I or II fisheries, they are required to register with NMFS. The MMPA registration process is integrated with existing state and Federal licensing, permitting, and registration programs. Therefore, individuals who have a state or Federal fishing permit or landing license, or who are authorized through another related state or Federal fishery registration program, are currently not required to register separately under the MMPA or pay the $25 registration fee. Through this integrated process, registration under the MMPA, including the $25 registration fee, is only required for vessels participating in a Category I or II non-permitted fishery. All Category I and II fisheries listed on the 2023 proposed LOF are permitted through state or Federal processes, and registration under the MMPA is covered through the integrated process. Therefore, this proposed rule would not impose any direct costs on small entities.

The MMPA requires any vessel owner or operator participating in a fishery listed on the LOF to report to NMFS, within 48 hours of the end of the fishing trip, all marine mammal incidental mortalities and injuries that occur during commercial fishing operations. These marine mammal mortalities and injuries are reported using a postage-paid, Office of Management and Budget (OMB) approved form (OMB Control Number 0648-0292). This postage-paid form requires less than 15 minutes to complete and can be dropped in any mailbox, faxed, emailed, or completed online within 48 hours of the vessels return to port. Therefore, recordkeeping and reporting costs associated with this LOF are minimal and would not have a significant impact on a substantial number of small entities.

If a vessel is requested to carry an observer, vessels will not incur any direct economic costs associated with carrying that observer. As a result of this certification, an initial regulatory flexibility analysis is not required and none has been prepared. In the event that reclassification of a fishery to Category I or II results in a TRP, economic analyses of the effects of that TRP would be summarized in subsequent rulemaking actions.

This proposed rule contains existing collection-of-information (COI) requirements subject to the Paperwork Reduction Act and would not impose additional or new COI requirements. The COI for the registration of individuals under the MMPA has been approved by the OMB under OMB Control Number 0648-0293 (0.15 hours per report for new registrants). The requirement for reporting marine mammal mortalities or injuries has been approved by OMB under OMB Control Number 0648-0292 (0.15 hours per report). These estimates include the time for reviewing instructions, searching existing data sources, gathering and maintaining the data needed, and completing and reviewing the COI. Send comments regarding these reporting burden estimates or any other aspect of the COI, including suggestions for reducing burden, to NMFS (see ADDRESSES). You may also submit comments on these or any other aspects of the collection of information at https://www.reginfo.gov/public/do/PRAMain.

Notwithstanding any other provision of law, no person is required to respond to, nor shall a person be subject to a penalty for failure to comply with a COI, subject to the requirements of the Paperwork Reduction Act, unless that COI displays a currently valid OMB control number.

This proposed rule has been determined to be not significant for the purposes of Executive Orders 12866 and 13563.

In accordance with the Companion Manual for NOAA Administrative Order (NAO) 216-6A, NMFS determined that publishing this proposed LOF qualifies to be categorically excluded from further NEPA review, consistent with categories of activities identified in Categorical Exclusion G7 (“Preparation of policy directives, rules, regulations, and guidelines of an administrative, financial, legal, technical, or procedural nature, or for which the environmental effects are too broad, speculative or conjectural to lend themselves to meaningful analysis and will be subject later to the NEPA process, either collectively or on a case-by-case basis”) of the Companion Manual and we have not identified any extraordinary circumstances listed in Chapter 4 of the Companion Manual for NAO 216-6A that would preclude application of this categorical exclusion. If NMFS takes a management action, for example, through the development of a TRP, NMFS would first prepare an Environmental Impact Statement or Environmental Assessment, as required under NEPA, specific to that action.

This proposed rule would not affect species listed as threatened or endangered under the ESA or their associated critical habitat. The impacts of numerous fisheries have been analyzed in various biological opinions, and this rule will not affect the conclusions of those opinions. The classification of fisheries on the LOF is not considered to be a management action that would adversely affect threatened or endangered species. If NMFS takes a management action, for example, through the development of a TRP, NMFS would consult under ESA section 7 on that action.

This proposed rule would have no adverse impacts on marine mammals and may have a positive impact on marine mammals by improving knowledge of marine mammals and the fisheries interacting with marine mammals through information collected from observer programs, stranding and sighting data, or take reduction teams.

This proposed rule would not affect the land or water uses or natural resources of the coastal zone, as specified under section 307 of the Coastal Zone Management Act.

References

Carretta, J.W., E.M. Oleson, K.A. Forney, M.M. Muto, D.W. Weller, A.R. Lang, J. Baker, B. Hanson, A.J. Orr, J. Barlow, J.E. Moore, and R.L. Brownell. 2022. U.S. Pacific Marine Mammal Stock Assessments: 2021. U.S. Department of Commerce, NOAA Technical Memorandum NMFS-SWFSC-663. 395 p.

Carretta, J.V., J. Greenman, K. Wilkinson, J. Freed, L. Saez, D. Lawson, J. Viezbicke, and J. Jannot. 2021. Sources of human-related injury and mortality for U.S. Pacific west coast marine mammal stock assessments, 2016-2020. Draft reviewed by the Pacific Scientific Review Group in March, 2022. 140 p.

Carretta, J.V., E. Oleson, K.A. Forney, J. Baker, J.E. Moore, D.W. Weller, A.R. Lang, M.M. Muto, B. Hanson, A.J. Orr, H. Huber, J. Barlow, D. Lynch, L. Carswell, and R.L. Brownell Jr. 2021. U.S. Pacific Marine Mammal Stock Assessments: 2020. U.S. Department of Commerce, NOAA Technical Memorandum NMFS-SWFSC-646. 394 p.

Freed, J. C., N.C. Young, B.J. Delean, V.T. Helker, M.M. Muto, K.M. Savage, S.S. Teerlink, L.A. Jemison, K.M. Wilkinson, and J.E. Jannot. 2021. Human-Caused Mortality and Injury of NMFS-Managed Alaska Marine Mammal Stocks, 2015-2019. U.S. Department of Commerce. NOAA Tech. Memo. NMFS-AFSC-424, 112 p.

Hayes, S.A., E. Josephson, K. Maze-Foley, P.E. Rosel and J. Wallace. editors. 2022. U.S. Atlantic and Gulf of Mexico Marine Mammal Stock Assessments 2021. U.S. Department of Commerce, NOAA Technical Memorandum. 386 p.

Dated: August 30, 2022.
Samuel D. Rauch, III,
Deputy Assistant Administrator for Regulatory Programs, National Marine Fisheries Service.

[FR Doc. 2022-19153 Filed 9-8-22; 8:45 am]

BILLING CODE 3510-22-P